DEPARTMENT OF TRANSPORTATION

Federal Aviation Administration

14 CFR Parts 21, 61, 63, 65, 91, 107, 125, and 141

[Docket No.: FAA-2020-0446; Amdt. No(s). 21-102, 61-145, 63-43, 65-60, 91-357, 107-3, 125-69, and 141-21]

RIN 2120-AL64

Limited Extension of Relief for Certain Persons and Operations During the Coronavirus Disease 2019 (COVID-19) Public Health Emergency

AGENCY: Federal Aviation Administration (FAA), Department of Transportation (DOT).

ACTION: Final rule.

SUMMARY: This final rule amends the regulatory relief originally provided in the Relief for Certain Persons and Operations during the Coronavirus Disease 2019 (COVID-19) final rule. Other than relief for medical certificate duration, the relief in this final rule applies to a new population of airmen and does not extend the relief provided in the original Special Federal Aviation Regulation (SFAR). The amended relief applies to new persons who may have challenges complying with certain training, recent experience, testing, and checking requirements. This relief allows operators to continue to use pilots and other crewmembers in support of essential operations during this extended period. This SFAR also provides regulatory relief to additional persons unable to meet duration and renewal requirements due to the public health emergency.

DATES: Effective June 25, 2020, through March 31, 2021.

ADDRESSES: For information on where to obtain copies of rulemaking documents and other information related to this final rule, see “How to Obtain Additional Information” in the SUPPLEMENTARY INFORMATION section of this document.

FOR FURTHER INFORMATION CONTACT: For technical questions concerning this action for pilots, contact Craig Holmes, General Aviation and Commercial Division; Federal Aviation Administration, 800 Independence Avenue SW, Washington, DC 20591; telephone (202) 267-1100; email 9-AVS-AFS800-COVID19-Correspondence@faa.gov. For technical questions concerning this action for mechanics and special flight permits, contact Kevin Morgan, Aircraft Maintenance Division; Federal Aviation Administration, 800 Independence Avenue SW, Washington, DC 20591; telephone (202) 267-1675; email Kevin.Morgan@faa.gov. For technical questions concerning this action for aircraft dispatchers and flight engineers, contact Theodora Kessaris and Sheri Pippin, Air Transportation Division, Federal Aviation Administration, 800 Independence Avenue SW, Washington, DC 20591; telephone (202) 267-8166; email 9-AVS-AFS200-COVID-Exemptions@faa.gov.

SUPPLEMENTARY INFORMATION:

Good Cause for Immediate Adoption

Section 553(b)(3)(B) of the Administrative Procedure Act (APA) (5 U.S.C.) authorizes agencies to dispense with notice and comment procedures for rules when the agency for “good cause” finds that those procedures are “impracticable, unnecessary, or contrary to the public interest.” In addition, section 553(d) of the APA requires that agencies publish a rule not less than 30 days before its effective date, except a substantive rule that relieves a restriction or “as otherwise provided by the agency for good cause found and published with the rule.” 5 U.S.C. 553(d)(1) and (3).

The FAA finds good cause under 5 U.S.C. 553(b)(3)(B) to waive prior notice and the opportunity for public comment. The provisions in this final rule provide temporary relief to persons who have been unable to meet certain requirements during the national emergency concerning COVID-19. Without this final rule, certain individuals will not be able to continue exercising privileges in support of essential operations due to their inability to satisfy certain training, recent experience, testing, and checking requirements. In addition, other individuals may be unable to satisfy certain requirements due to a reduced availability of personnel that are able to conduct routine aviation activities. In other instances, such activities may be contrary to State and local directives that continue certain restrictions as they implement phased recovery plans.

The FAA recognizes that there are aviation operations outside of air carrier and commercial operations conducted under part 119 of title 14 of the Code of Federal Regulations (14 CFR) that are critical, including operations that support essential services and flights that support the COVID-19 public health emergency response efforts. These operations are likely to face disruption due to a decreased supply of qualified pilots resulting from the effects of the COVID-19 public health emergency including the reduced number of personnel available to administer required training, checking, and testing. Without the relief in this SFAR, beginning July 1, 2020, and with each month thereafter, a new group of pilots will become unavailable to perform critical operations due to an inability to comply with regulatory requirements. This SFAR will provide temporary relief to certain individuals whose qualifications would otherwise lapse, to ensure there are a sufficient number of qualified personnel available to conduct essential aviation activities during this period. The FAA finds that this temporary action is needed to enable individuals to continue to exercise their airman certificate privileges during the immediate period following the initial COVID-19 public health emergency.

This action is also needed to provide immediate notification to individuals facing impending expiration dates for certificates, endorsements, and test results.¹ With the cessation of many non-essential aviation training and testing activities, many individuals have been unable to complete certain activities before encountering expiration dates. Absent the relief in this rule, persons may attempt to satisfy certain requirements to avoid economic burdens associated with non-compliance even though compliance could require acting contrary to national social distancing guidelines and restrictions in State and local directives associated with phased recovery efforts. In addition, as routine activities begin to resume, these individuals may be unable to satisfy requirements for reasons outside their control, such as the reduced number of personnel. This final rule provides immediate relief from certain duration and renewal requirements to reduce unnecessary risk of exposure and to assure persons that they will not endure economic burdens due to non-compliance with certain regulations.

¹ Certain FAA regulations require a person to act within a particular timeframe in order to avoid an expiration. For example, a knowledge test result is generally valid for 24 months. A person must take the practical test before the knowledge test result expires or he or she must retake the knowledge test at additional cost.

Accordingly, the FAA finds that providing notice and an opportunity to comment is contrary to the public interest, because any delay in implementation of this final rule could result in disruption to critical aviation operations, and could increase the incidence of exposure during this public health emergency and into the period of recovery. Furthermore, the continually evolving public health situation as a result of, and State and local responses to, the COVID-19 public health emergency significantly limits how far in advance the FAA can usefully assess the need for the flexibilities provided for in this regulation.

In addition, for the same reasons stated above, the FAA finds good cause to waive the 30-day delay in effective date of this final rule under 5 U.S.C. 553(d)(3) for the SFAR provisions that address the training and qualification requirements. Because the APA also allows a substantive rule that relieves a restriction to become effective in less than 30 days after publication, the FAA finds that the SFAR provisions that provide relief by extending duration and renewal requirements may also be immediately effective. 5 U.S.C. 553(d)(1).

Authority for This Rulemaking

The FAA's authority to issue rules on aviation safety is found in Title 49 of the United States Code (49 U.S.C.). Subtitle I, Section 106 describes the authority of the FAA Administrator. Subtitle VII, Aviation Programs, describes in more detail the scope of the agency's authority.

This rulemaking is promulgated under the authority described in 49 U.S.C. 106(f), which establishes the authority of the Administrator to promulgate regulations and rules; 49 U.S.C. 44701(a)(5), which requires the Administrator to promulgate regulations and minimum standards for other practices, methods, and procedures necessary for safety in air commerce and national security; and 49 U.S.C. 44703(a), which requires the Administrator to prescribe regulations for the issuance of airman certificates when the Administrator finds, after investigation, that an individual is qualified for, and physically able to perform the duties related to, the position authorized by the certificate. This rulemaking provides airmen relief from certain training, recency, testing, and checking requirements, and establishes qualification requirements for airmen seeking to conduct essential operations during the COVID-19 public health emergency. For these reasons, this rulemaking is within the scope of the FAA's authority.

List of Abbreviations and Acronyms Frequently Used in This Document

ATP—Airline Transport Pilot

COVID-19—Coronavirus Disease 2019

IFR—Instrument Flight Rules

PIC—Pilot in Command

SIC—Second in Command

UAS—Unmanned Aircraft Systems

Table of Contents

I. Overview of Final Rule

II. Background

III. Discussion of Final Rule

A. Relief From Certain Training, Recency, Testing and Checking Requirements

1. Part 61

a. Second-in-Command Qualifications (§ 61.55)

b. Flight Review (§ 61.56)

c. Recent Flight Experience: Pilot in Command (§ 61.57)

d. Pilot-in-Command Proficiency Check: Operation of an Aircraft That Requires More Than One Pilot Flight Crewmember or Is Turbojet-Powered (§ 61.58)

2. Part 91, Subpart K Flight Crewmember Requirements (§§ 91.1065, 91.1067, 91.1069, 91.1071, 91.1073, 91.1089, 91.1091, 91.1093, 91.1095, 91.1099, 91.1107)

3. Mitsubishi MU-2B Series Special Training, Experience, and Operating Requirements (Part 91, §§ 91.1703, 91.1705, 91.1715)

4. Aeronautical Knowledge Recency (§ 107.65)

5. Part 125 Flight Crewmember Requirements (§§ 125.285, 125.287, 125.289, 125.291, 125.293)

6. Robinson R-22/R-44 Special Training and Experience Requirements (SFAR 73)

B. Relief From Certain Duration and Renewal Requirements

1. Part 61

a. Medical Certificates: Requirement and Duration (§ 61.23)

b. Prerequisites for Practical Tests (§ 61.39)

2. Part 63

a. Certificates and Ratings Required (§ 63.3)

b. Knowledge Requirements (§ 63.35)

3. Part 65

a. [Dispatcher] Knowledge Requirements (§ 65.55)

b. Eligibility Requirements: General (§ 65.71)

IV. Regulatory Notices and Analyses

V. Executive Order Determinations

VI. How To Obtain Additional Information

I. Overview of Final Rule

The FAA's regulations contain several training, recent experience, testing, and checking requirements that persons must comply with prior to exercising their airman or crewmember privileges. The FAA's regulations also contain duration requirements, such as those pertaining to medical certificates, the validity of knowledge tests, and general procedures for completing a practical test. Persons continue to have difficulty complying with several of the FAA's requirements because of the ongoing effects of the COVID-19 public health emergency, including the continuation of social distancing guidelines to prevent transmission of the virus. As a result, “lapses” in qualifications, which occur on the last day of each month, will affect an additional cohort of regulated parties at the end of each month even as stay-at-home advisories are lifted and replaced with State and local directives for phased recovery and routine activities resume. The regulatory relief provided in this final rule will amend the Relief for Certain Persons and Operations during the Coronavirus Disease 2019 (COVID-19) final rule (SFAR 118) (85 FR 26326) that was issued on April 30, 2020. This amendment will enable the continuity of aviation operations that are critical during the COVID-19 public health emergency and the recovery, including operations that support essential services and flights that support response efforts. In addition, the SFAR contains regulatory relief for persons who are unable to satisfy certain requirements to prevent those persons from enduring unnecessary economic burdens due to circumstances related to the public health emergency that are outside of their control. The FAA notes that, except for one instance related to the extension of medical certificates, no extension of relief has been granted to airmen who were eligible for relief in SFAR 118. The FAA also notes that, in this final rule, it is not expanding every area of relief provided in original SFAR 118. Although this amended SFAR will remain effective through March 31, 2021, that date does not reflect the duration for every provision. As a result, airman, operators, and air agencies should review the eligibility, conditions, and duration of the SFAR carefully to ensure compliance.

The table below summarizes the amendments to SFAR 118.

14 CFR | Area of relief | Original SFAR 118 relief | Amended SFAR 118-1 relief
61.55 | Second-in-Command Pilot Qualifications | Due March-June 2020 has 3 grace months to complete training | Added pilots due July-Sept 2020.
61.56 | Pilot Flight Review | Due March-June 2020 has 3 grace months to complete flight review | Added pilots due July-Sept 2020.
61.57 | Pilot Instrument Currency | 9-month currency look-back period (instead of 6 months) for flights April 30-June 30, 2020 | Added look-back period for flights in July-Sept 2020.
61.58 | Pilot-in-Command Proficiency Check | Due March-June 2020 has 3 grace months to complete check | Added pilots due in July-Sept 2020.
Part 91, Subpart K | Crewmember Requirements | Due March-June 2020 has 3 grace months to complete training, recency, and checking | Added crewmembers due in July-Sept 2020.
Part 91, Subpart N | Mitsubishi MU-2B Series Special Training, Experience, and Operating Requirements | Due March-June 2020 has 3 grace months to complete training and flight review | Added pilots due in July-Sept 2020.
107.65 | Remote Pilot Aeronautical Knowledge Recency | Due March-June 2020; privileges are renewed for 6 months following completion of online training | Added remote pilots whose privileges are due to expire July-Sept 2020.
Part 125 | Flight Crewmember Requirements | Due March-June 2020 has 3 grace months to complete training, recency, and checking | Added crewmembers due in July-Sept 2020.
SFAR 73 | Robinson R-22/R-44 Special Training and Experience Requirements | Due March-June 2020 has 3 grace months to complete flight review | Added pilots due in July-Sept 2020.
61.23 | Pilot Medical Certificate Duration | Validity of March-May 2020 medicals extended to June 30, 2020 | Extend medical validity period by 3 calendar months from expiration applies to medicals expiring March-Sept 2020.
61.39 | Pilot Knowledge Test Validity Period | Test results expiring March-June 2020 extended 3 calendar months | Knowledge tests expiring in July-Sept 2020 added.
61.197 | Flight Instructor Renewal | Certificate expiration March-May 2020 have until June 30, 2020 to renew | No change.
SFAR 100-2 | Relief for U.S. Military and Civilian Personnel Who are Assigned Outside the U.S. in Support of U.S. Armed Forces Operations | Eligible persons that returned from overseas October 2019-March 2020 received an extension of 3 calendar months | No change.
63.3 | Flight Engineer Medical Certificate Duration | Validity of March-May 2020 medicals extended to June 30, 2020 | Extend medical validity period by 3 calendar months from expiration applies to medicals expiring March-Sept 2020.
63.35 | Flight Engineer Written Test Validity Period | Test results expiring March-June 2020 extended 3 calendar months | Written tests expiring in July-Sept 2020 added.
65.55 | Dispatcher Knowledge Test Validity Period | Test results expiring March-June 2020 extended 3 calendar months | Knowledge tests expiring in July-Sept 2020 added.
65.71 | Mechanic Applicant Testing Period | Testing period expires March-June 2020 extended 3 months | Testing period expiring in July-Sept 2020 added.
65.93 | Mechanic with Inspection Authorization Renewal | 3 additional months (April-June 2020) to meet year one renewal requirements | No change.
65.117 | Military Riggers | Eligible military parachute riggers who were released March-June 2019 have 3 additional months to make application | No change.
141.5 | Pilot School Certificate Requirements | Provisional certificate expires April-June 2020 extended to Dec 31, 2020 to apply for a pilot school certificate | No change.
141.27 | Pilot School Certificate Renewal Requirements | Certificate expires April-June 2020 extended to Dec 31, 2020 to renew | No change.
21.197 | Special Flight Permit—Move Aircraft to Storage | April 30-Dec 31, 2020 | No change.

II. Background

In March 2020, the FAA received several letters from industry associations petitioning the FAA for relief and extensions from certain requirements during the COVID-19 public health emergency.² The content of the letters and the relief and flexibility sought were described in the Relief for Certain Persons and Operations during the Coronavirus Disease 2019 (COVID-19) final rule (SFAR 118) (85 FR 26326). On May 29, 2020, the FAA received an additional letter signed by six industry associations seeking to extend by a month the relief granted to those individuals eligible for relief in SFAR 118.³ The letter also requested the FAA to expand the eligibility of the relief to additional groups of pilots, operators, and certificate holders who face expiring experience, testing, checking, duration, medical, and renewal requirements in July through September 2020.

² These letters are available in the rulemaking docket.

³ The letter was from the Aircraft Owners and Pilots Association (AOPA), Air Medical Operators Association (AMOA), Experimental Aircraft Association (EAA), Helicopter Association International (HAI), National Agricultural Aviation Association, National Air Transportation Association (NATA), and National Business Aviation Association (NBAA).

The industry associations supported their position by acknowledging that while restrictions are easing in some areas, they continue to see burdens and restrictions that will continue to have a negative impact on the aviation community into the foreseeable future. The letter cited guidance from the Centers for Disease Control and Prevention (CDC), which continues to recommend limited contact with persons outside of one's household, and added that State and local governments are enforcing social distancing requirements. As a result, many aviation stakeholders seek to minimize their risk of exposure. The industry associations referenced FAA data, which indicates that “more than 57% of [designated pilot examiners] are over the age of 60, a demographic at higher risk of severe effects” from COVID-19 disease. The letter also cited aviation medical examiners either being unavailable or taking weeks to schedule appointments. They added that the additional flexibility will allow airmen and examiners to abide by CDC and individual State recommendations while stimulating the economy and moving medical and emergency supplies when needed. The industry associations believe the safety mitigations in SFAR 118 will continue to ensure an equivalent level of safety during the extensions.

The FAA also received a petition for exemption from Airlines for America (A4A) requesting additional relief from expiration dates for medical certificates beyond what SFAR 118 provided for part 121 pilots and flight engineers. Specifically, A4A requested that airmen holding medical certificates that were due to expire in April 2020 and May 2020 be extended for a total of three calendar months.⁴ In addition, A4A sought a 3-month extension to medicals that will expire in July through September 2020. It stated that such relief would facilitate an uninterrupted stream of airmen for flight operations and ensure continuity of essential air service while reducing possible exposure to COVID-19 and allowing for flexibility in scheduling medical appointments. A4A added that, as access to aviation medical examiners resumes, these non-emergency medical appointments may be subject to large backlogs and not considered priority. A4A reiterated the FAA's determination from SFAR 118 that “pilots may operate beyond the validity period of their medical certificate for a limited time without creating a risk to aviation safety that is unacceptable under the extraordinary circumstances surrounding the COVID-19 outbreak.”

⁴ SFAR 118 provided disproportionate relief for medical certificates that expired in April and May 2020 by extending them all until June 30, 2020.

In addition, on May 19, 2020, the President issued Executive Order 13924, Regulatory Relief to Support Economic Recovery, setting forth “the policy of the United States to combat the economic consequences of COVID-19 with the same vigor and resourcefulness with which the fight against COVID-19 itself has been waged.” Among other things, the Executive Order directed executive branch agencies to “address this economic emergency by rescinding, modifying, waiving, or providing exemptions from regulations and other requirements that may inhibit economic recovery consistent with applicable law and with protection of the public health and safety . . . .” This final rule is consistent with this Executive Order.

III. Discussion of Final Rule

Without the expanded relief provided in this SFAR, certain persons are at risk of ceasing operations due to their inability to satisfy training and qualification requirements due to disruptions caused by the COVID-19 public health emergency. Airmen continue to have trouble complying with certain training, recency, checking, testing, duration, and renewal requirements even as stay-at-home advisories are lifted. Even as the Nation transitions to various phases of reopening throughout the country, authorities continue to promote social distancing and limiting exposure to slow the spread of the virus. To comply with many of the FAA's training, recency, checking, testing, duration, and renewal requirements, an airman is required to be in close proximity to another individual, often in a small, confined space such as the flight deck of an aircraft or inside a simulator. In such an environment, there is an increased risk of transmission of the virus.

Although there are signs of increased aviation activity, many of the challenges that existed when SFAR 118 was first issued remain today. As those airmen that exercised the relief in the SFAR begin to reschedule training and qualification activities, further strain is placed on the training ecosystem for those airmen who are due for events in the upcoming months. In addition, the FAA workforce and its designees have not fully returned to normal activity. As a result, airman qualifications will lapse because persons cannot access training or testing facilities or schedule events in a timely fashion, or because FAA inspectors or designees are unavailable to conduct required tests, checks, or observations. To enable the continuity of aviation operations that are critical to the Nation, the FAA finds it necessary to provide short-term relief from certain training, qualification, duration, and renewal requirements to a new cohort of airmen.

Because this SFAR addresses multiple regulations from several parts of the Federal Aviation Regulations, the FAA has provided the necessary background information in the relevant sections of the Discussion of the Final Rule. The FAA emphasizes that, apart from the limited relief granted in this SFAR, individuals must continue to comply with all applicable FAA regulations.⁵

⁵ The FAA notes, in particular, that § 61.51(a) requires an individual to log training and aeronautical experience used to meet the requirements for a certificate, rating, or flight review and aeronautical experience required for meeting the recent flight experience requirements of part 61. Likewise, § 61.51(i) requires a person to present their pilot certificate, medical certificate, logbook, or any other record required by part 61 for inspection upon a reasonable request by (i) the Administrator; (ii) an authorized representative from the National Transportation Safety Board; or (iii) any Federal, State, or local law enforcement officer.

Each of the following sections explains the relief being granted and the airmen or air agencies eligible for the relief.⁶ The mitigations the FAA found necessary to ensure aviation safety remain unchanged from SFAR 118; therefore, they are not fully explained in the preamble of this amendment.

⁶ As explained further in Section IV.F of this SFAR (International Compatibility), certain relief provided in this SFAR does not conform with the International Civil Aviation Organization (ICAO) Standards and Recommended Practices (SARPs). Apart from this SFAR's application within the United States, certificate holders or operators may dispatch or release flights and pilots and other crewmembers may operate outside of the United States under this SFAR, unless otherwise prohibited by a foreign country. For international operations where pilots and other crewmembers will exercise the relief identified in this SFAR, anyone exercising this relief must have access to the SFAR when outside the United States and present a copy of this SFAR for inspection upon request by a foreign civil aviation authority.

While the FAA is expanding the relief in SFAR 118 to a new group of airmen, it has not extended the period of relief provided to the original group of airmen except in one instance related to medical certification that is explained later in this preamble. The FAA maintains that limited extensions, not to exceed 3 calendar months (grace months), for training, checking, and currency requirements are acceptable in these extraordinary circumstances. Further extending the grace period provided to the original group of airmen covered by SFAR 118, however, presents an added risk to the system that the FAA does not broadly support. The grace months provided by the SFAR were to offer flexibility in scheduling the necessary events given the disruption caused by the COVID-19 public health emergency. Certificate holders should seek to schedule those events as soon as it is practical and safe to do so given individual circumstances.

A. Relief From Certain Training, Recency, Testing, and Checking Requirements

As noted in the letters from industry, general aviation operators and crewmembers can be a key part of the U.S. infrastructure. The support that general aviation provides is particularly critical as the Nation begins to recover from the public health emergency. Because some phased recovery measures continue to recommend that people stay at home or limit exposure through social distancing, some airmen will continue to have difficulty completing certain regulatory requirements in the short-term. In addition, as aviation activity begins to resume, the FAA anticipates that the demand for training, checking, and testing will exceed the availability of qualified instructors, check airmen, and examiners in many locations. The relief in this final rule will provide additional time and flexibility for airmen to schedule and complete those regulatory activities. The FAA encourages airmen not to delay scheduling until the last possible moment to ensure compliance by the end of the grace periods. As a result, the FAA finds temporary relief from some requirements is still necessary to maintain critical operations, increase flexibility in scheduling, and reduce burdens on airmen.

Relief granted in this section to certain eligible pilots and crewmembers applies only to persons conducting specific operations for which the FAA has determined relief is appropriate. The overarching eligibility for relief in Section A remains unchanged from the original issuance of SFAR 118; however, it is reiterated here for clarity. Except for medical certification, no individuals who obtained relief under the original SFAR will receive an extension of that relief. Specific eligibility changes for individual sections will be discussed in those sections.

The relief applies to any operation that requires the pilot to hold at least a commercial pilot certificate. This provision will support the continuity of essential commercial operations, which include aerial observation of critical infrastructure, aerial applications (e.g., crops), and private carriage of medical supplies and equipment, which are conducted under part 91, subpart K, and parts 125, 133, and 137.⁷

⁷ In accordance with § 137.19, a private operator pilot that holds a private pilot certificate is also eligible for relief.

In addition, this relief applies to some operations conducted by pilots exercising private pilot privileges, provided the pilot has at least 500 hours of total time as a pilot of which 400 hours is as PIC and 50 of the PIC hours were accrued in the last 12 calendar months. The kinds of operations permitted are those that are:

• Incidental to business or employment,

• in support of family medical needs or to transport essential goods for personal use,

• necessary to fly an aircraft to a location in order to meet a requirement of this chapter, or

• a flight to transport essential goods and/or medical supplies to support public health needs.

This SFAR also extends to pilots conducting charitable medical flights for a volunteer pilot organization pursuant to an exemption issued under part 11, provided the pilots continue to comply with the conditions and limitations of the exemption. For flights conducted by private pilots under this relief, no one may be carried on the aircraft unless that person is essential to the purpose of the flight, such as when transporting doctors for the purpose of providing medical care. This relief does not permit private pilots to conduct these operations for compensation or hire unless permitted under the exceptions in § 61.113(b), (d), (e), or (h) or by exemption.⁸

⁸ The FAA has consistently construed compensation under § 61.113(a) broadly. Compensation does not require a profit, profit motive, or the actual payment of funds. Rather, compensation is the receipt of anything of value, including the reimbursement of expenses. For additional discussion, the FAA has issued legal interpretations with respect to what constitutes compensation. Furthermore, nothing in this SFAR relieves a person from the requirement to hold a part 119 certificate if applicable FAA regulations require a part 119 certificate. See generally FAA Advisory Circular 120-12A (Apr. 24, 1986) and FAA Advisory Circular 61-142 (Feb. 25, 2020).

This relief also extends to flight attendant crewmembers, check pilots, and flight instructors under part 91, subpart K, and part 125. Finally, this relief applies to operations conducted under part 107 of this chapter by a person who holds a remote pilot certificate issued under part 107. Pilots exercising commercial pilot privileges have at least 190 hours of flight time as a pilot and have been tested to a higher standard than private pilots. The eligibility requirements for private pilots are consistent with conditions and limitations imposed on private pilots conducting charitable flights under a part 11 exemption.

This amendment to SFAR 118 addresses crewmember qualifications that may lapse in the next few months, provided the crewmember is eligible for the relief and satisfies the safety mitigations before exercising the privileges. The eligibility requirements and mitigations are discussed more fully in each subsection.

1. Part 61

Part 61 prescribes the requirements for pilot, flight instructor, and ground instructor certification, which include training, recency, testing, and checking requirements. The FAA is providing relief for second-in-command (SIC) qualifications, pilot flight reviews, specific recency of experience requirements, and the PIC proficiency check for pilots that operate aircraft that require more than one pilot flight crewmember or are turbojet-powered. The specific relief is described in paragraphs A.1.a. through A.1.d.

a. Second-in-Command Qualifications (§ 61.55)

Section 61.55(b) states that no person may serve as SIC of an aircraft certificated for more than one required pilot flight crewmember or in operations requiring an SIC unless that person has, within the previous 12 calendar months, become familiar with certain information specific to the type of aircraft and performed and logged pilot time in the type of aircraft or in a flight simulator that represents the type of aircraft.⁹ Although paragraph (c) provides SICs a grace month ¹⁰ for accomplishing this recency requirement, the effects of the COVID-19 public health emergency continues to create challenges for accomplishing this requirement even within that additional timeframe.

⁹ Section 61.55(b)(1)(i) specifies SICs must become familiar with operational procedures applicable to the powerplant, equipment, and systems; performance specifications and limitations; normal, abnormal, and emergency operating procedures; flight manual; and placards and markings. As prescribed in paragraph (b)(2), the SIC must also log pilot time and perform at least three takeoffs and three landings to a full stop as the sole manipulator of the flight controls; engine-out procedures and maneuvering with an engine out while executing the duties of pilot in command; and receive crew resource management training.

¹⁰ The “grace month” is the month after the month in which training is due during which the pilot is still eligible to maintain recency.

As a result, the FAA finds, under the extraordinary circumstances of the COVID-19 public health emergency, that allowing eligible SICs two additional grace months for completing the requirements of § 61.55(b) would not present additional risk to aviation safety that cannot be mitigated, as explained in the next paragraph. The additional grace months are available to pilots whose base month falls in March through September 2020. The “base month” is the month in which training is due. Under this SFAR, pilots will have a total of three grace months after the base month to accomplish the requirements of § 61.55(b).¹¹ If these requirements are completed during the grace period, they will be considered to have been completed during the base month. To attain the two additional grace months, eligible pilots must complete the requirements prescribed in SFAR 118 prior to serving as an SIC.¹²

¹¹ The three grace months consist of the grace month provided in § 61.55(c) and the two additional grace months provided by this SFAR.

¹² 85 FR 26330.

The FAA notes that, for pilots whose base month is March 2020, the three-month grace period is available through June 30, 2020, and these pilots must complete the requirements in § 61.55 before acting as SIC after June 30, 2020.

b. Flight Review (§ 61.56)

Section 61.56(c) states that no person may act as PIC of an aircraft, unless since the beginning of the 24th calendar month before the month in which that person acts as PIC, that person has accomplished a flight review in an aircraft for which that person is rated and the person's logbook has been endorsed for that review by an authorized instructor certifying the review was satisfactorily completed.¹³

¹³ Section 61.56(a) requires the flight review to consist of a minimum of 1 hour of flight training and 1 hour of ground training.

The FAA finds, under the extraordinary circumstances of the COVID-19 public health emergency, that extending the 24-calendar month requirement of § 61.56(c) by up to three calendar months will not adversely affect safety, provided the extension applies to active pilots and certain risk mitigations are met. The three-calendar month extension applies to pilots who were current to act as PIC of an aircraft in March 2020 and whose flight review was due in March 2020 through September 2020. Eligible pilots must complete the requirements prescribed in SFAR 118 prior to serving as a PIC.¹⁴

¹⁴ 85 FR 263301.

The FAA notes that, for pilots whose flight review was due in March 2020, the three-month grace period is available through June 30, 2020, and these pilots must complete the requirements in § 61.56 before acting as PIC after June 30, 2020.

c. Recent Flight Experience: Pilot in Command (§ 61.57)

Section 61.57 contains the recent flight experience requirements to serve as a PIC in an aircraft under various conditions. After reviewing the recent flight experience requirements of this section, the FAA has determined that only relief for instrument recency is warranted.

Section 61.57(c) specifies the requirements to serve as a PIC under IFR or weather conditions less than the minimums prescribed for visual flight rules (VFR). To be current under § 61.57(c),¹⁵ a pilot must have performed and logged, within the six calendar months preceding the month of the flight, six instrument approaches, holding procedures and tasks, and intercepting and tracking courses using navigational electronic systems.

¹⁵ Section 61.57(c)(1) contains the requirements for maintaining instrument experience in an airplane, powered-lift, helicopter, or airship. Section 61.57(c)(3) contains the requirements for maintaining instrument experience in a glider.

If a pilot is unable to establish instrument recency in accordance with § 61.57(c), paragraph (d) prescribes how a pilot may reestablish instrument recency. If a pilot does not have the required approaches, holding, and intercepting and tracking courses in the preceding six calendar months, the pilot has an additional six calendar months to obtain the required experience by flying with a view-limiting device and a safety pilot ¹⁶ or using a training device. During this period, the pilot may not serve as the PIC under IFR or weather conditions less than the minimums prescribed for VFR. If the pilot fails to meet the instrument experience requirements for more than six calendar months, the pilot must complete an instrument proficiency check administered by an authorized instructor, company check pilot, designated pilot examiner, or person approved by the Administrator.¹⁷

¹⁶ A safety pilot is a person who occupies a control seat in an aircraft and maintains a visual watch when the pilot manipulating the flight controls of the aircraft is using a view-limiting device to simulate flight by reference to instruments. 14 CFR 91.109(c).

¹⁷ Section 61.57(d)(3) contains the list of persons who may administer an instrument proficiency check.

The FAA finds, under the extraordinary circumstances of the COVID-19 outbreak, that relief for instrument recency is appropriate under certain conditions. The FAA is extending the six-calendar month requirement of § 61.57(c)(1) by an additional three calendar months. This will enable a pilot to continue exercising instrument privileges, provided the pilot has performed the required tasks within the nine calendar months preceding the month of the flight, instead of the preceding six calendar months.

To be eligible for the relief, a pilot will need to have some recent experience in instrument flight. More specifically, the FAA is requiring that the pilot have logged, in the preceding six calendar months, three instrument approaches in actual weather conditions, or under simulated conditions using a view-limiting device. Eligible pilots may exercise the relief in this SFAR through September 30, 2020. After that date, a pilot must be current in accordance with § 61.57(c). If the pilot does not meet the instrument experience requirements before September 30, 2020, the pilot retains the ability to reestablish recency in accordance with § 61.57(d). However, the pilot will no longer have six months to reestablish instrument recency. Instead, the number of months available for a pilot to attain the instrument experience prior to requiring completion of the instrument proficiency check will depend on when the person last established instrument recency in accordance with § 61.57(c).¹⁸

¹⁸ For example, if the pilot performed and logged the tasks required by § 61.57(c)(1) in December 2019, that pilot may continue exercising instrument privileges under this SFAR after June 2020, provided the pilot meets the qualification requirements. This SFAR would allow that pilot to continue acting as PIC under IFR or in weather conditions less than the minimums prescribed for VFR until September 30, 2020. After September 30, 2020, that pilot would be required to comply with § 61.57(c). As previously mentioned, § 61.57(d) gives a pilot who has failed to meet the instrument experience requirements of paragraph (c) a grace period of six calendar months to reestablish instrument recency. A pilot who does not reestablish instrument recency during those additional six calendar months may reestablish instrument recency only by completing an instrument proficiency check. Therefore, if the pilot in this hypothetical fails to complete the tasks required by § 61.57(c)(1) by September 30, 2020, that pilot would have three calendar months (until December 31, 2020) available to attain the instrument experience prior to requiring completion of an instrument proficiency check.

d. Pilot-in-Command Proficiency Check: Operation of an Aircraft That Requires More Than One Pilot Flight Crewmember or Is Turbojet-Powered (§ 61.58)

Section 61.58 requires a PIC proficiency check for those pilots that fly an aircraft that requires more than one pilot or is turbojet-powered. Paragraph (a)(1) requires a pilot to complete a PIC proficiency check within the preceding twelve calendar months in an aircraft that is type certificated for more than one required pilot or is turbojet-powered. In addition, paragraph (a)(2) requires a pilot to accomplish, within the preceding 24 calendar months, a PIC proficiency check in the particular type of aircraft in which that person will serve as PIC that is type-certificated for more than one required pilot flight crewmember or is turbojet-powered.¹⁹ Paragraph (i) establishes a grace month for completing the PIC proficiency check. Specifically, it allows the check to be completed in the month prior to or the month after the month in which the check is due.

¹⁹ In accordance with § 61.58(b), this section does not apply to persons conducting operations under subpart K of part 91, or part 121, 125, 133, 135, or 137. In accordance with § 61.57(c), the PIC proficiency check given in accordance with subpart K of part 91, parts 121, 125, or 135 may be used to satisfy the requirements of this section.

The FAA finds, under the extraordinary circumstances of the COVID-19 public health emergency, that allowing two additional grace months for completing the PIC proficiency checks required by § 61.58(a)(1) and (2) does not present a risk to aviation safety that cannot be mitigated, as explained in SFAR 118.²⁰ Eligible pilots are those pilots who are required to complete a proficiency check in accordance with § 61.58(a)(1) and whose base month falls within the time period of March 2020 through September 2020. In accordance with § 61.58(a)(2), pilots who have not completed a proficiency check in the aircraft they intend to fly within the preceding 24 calendar months and whose base month falls between March 2020 and September 2020, are also eligible for the relief in this SFAR.²¹ Pilots will have a total of three grace months after the base month to accomplish the PIC proficiency check required by § 61.58(a)(1) and (2).²² A PIC proficiency check completed during the grace period will be considered to have been completed in the base month.

²⁰ 85 FR 26331-2

²¹ If a pilot's base month is September 2020, this SFAR extends the validity through December 30, 2020.

²² This three-month grace period includes the grace month that is already provided by § 61.58(i) and the two additional grace months provided by this SFAR.

The FAA notes that, for pilots whose proficiency check was due in March 2020, the three-month grace period is available through June 30, 2020, and these pilots must complete the requirements in § 61.58 before acting as PIC after June 30, 2020.

2. Part 91, Subpart K Flight Crewmember Requirements (§§ 91.1065, 91.1067, 91.1069, 91.1071, 91.1073, 91.1089, 91.1091, 91.1093, 91.1095, 91.1099, 91.1107)

Part 91, subpart K, prescribes the additional rules that apply to private, general aviation fractional ownership programs. There are currently nine fractional ownership programs operating under part 91, subpart K. They range in size from managers with two aircraft to managers with over 500 airplanes and helicopters.

The crewmember testing and checking requirements are established in §§ 91.1065, 91.1067, 91.1069, and 91.1071. Recurrent training requirements for crewmembers are specified in §§ 91.1073, 91.1099, and 91.1107. These requirements cover the following activities and timelines for completion:

• Section 91.1065—pilot knowledge testing and competency checking requirements (completed within the previous twelve months before the pilot serves as a required crewmember);

• Section 91.1067—flight attendant crewmember testing requirements (completed within the previous twelve months before serving as a flight attendant crewmember);

• Section 91.1069(a) and (b)—instrument proficiency checking requirements for PICs (completed within the previous six months) and SICs (completed in previous twelve months);

• Section 91.1099—initial or recurrent training (completed within the previous twelve months before serving as a crewmember);

• Section 91.1107—crewmember recurrent training (completed within the previous twelve months before serving as a crewmember);

• Section 91.1069(c)—instrument approach procedure recency (demonstrated that type of approach within previous six months);

• Section 91.1071(a)—creates a grace month that allows a crewmember test or flight check required by subpart K to be completed in the month before or after the month it is required; and

• Section 91.1073(b)—creates a grace month that allows crewmember recurrent training required by subpart K to be completed in the month before or after the month it is required.

Subpart K of part 91 also contains instructor and check pilot qualifications in §§ 91.1089 through 91.1095. Sections 91.1089 and 91.1091 require check pilots and flight instructors qualified in simulators to fly at least two flight segments as a required crewmember for the type, class, or category of aircraft involved within the previous twelve-month period or complete an approved line-observation program within the period prescribed by that program. Paragraph (g) in both sections provides a grace month stating that the flight segments or line observations are considered complete if completed in the month before or the month after in which they are due. Sections 91.1093 and 91.1095 require that a person who conducts checking or instruction have satisfactorily completed an observation check within the preceding 24 months. Paragraph (b) in both sections also provides a grace month for the checks to be completed.

The FAA finds, under the extraordinary circumstances of the COVID-19 public health emergency, that allowing a total of three grace months after the base month for completing the covered training, testing, and checking requirements for crewmembers, check pilots, and flight instructors whose base month is in March through September 2020—many of which already permit one grace month—does not present a risk to aviation safety that cannot be mitigated under the conditions of SFAR 118.²³ If a management specification holder seeks the relief provided in this amendment, the risk mitigation plan must include reference to crewmembers whose base month is July through September 2020, as appropriate. This may require an amendment to a previously submitted mitigation plan under the conditions of SFAR 118; however, persons whose base month was March through June 2020 receive no further relief under this portion of the final rule.

²³ 85 FR 26332-3.

3. Mitsubishi MU-2B Series Special Training, Experience, and Operating Requirements (§§ 91.1703, 91.1705, 91.1715)

Subpart N of part 91 contains training, experience, and operating requirements specific to the Mitsubishi MU-2B series airplane. Except as specified in § 91.1703(b),²⁴ a person may not manipulate the controls, act as PIC, or act as SIC of a MU-2B series airplane for the purpose of flight unless that person satisfies certain ground and flight training requirements,²⁵ including recurrent training requirements, in an FAA-approved MU-2B training program that meets the standards of subpart N of part 91. This requirement is contained in § 91.1705(a)(1).²⁶

²⁴ Section 91.1703(b) states that a person who does not meet the requirements of subpart N of part 91 may manipulate the controls of a Mitsubishi MU-2B series airplane if a PIC who meets the requirements of subpart N of part 91 is occupying a pilot station, no passengers or cargo are carried on board the airplane, and the flight is being conducted for one of the reasons specified in § 91.1703(b)(1) through (3).

²⁵ The requirements for ground and flight training are on initial/transition, requalification, recurrent, and differences training. 14 CFR 91.1705(a)(1).

²⁶ Section 91.1705(a)(2) requires the person's logbook to have been endorsed in accordance with § 91.1705(f).

In addition, § 91.1705(b)(1) states that, except as specified in § 91.1703(b), a person may not manipulate the controls, act as PIC, or act as SIC, of a MU-2B series airplane for the purpose of flight unless that person satisfactorily completes, if applicable, recurrent pilot training on the special emphasis items and all items listed in the Training Course Final Phase Check in accordance with an FAA-approved MU-2B training program that meets the standards of subpart N of part 91.²⁷

²⁷ Section 91.1705(b)(2) also requires the person's logbook to have been endorsed in accordance with § 91.1705(f).

Section 91.1703(e) requires a person to complete recurrent training within the preceding twelve months without the option of a grace month.²⁸ Under § 91.1705(e), however, a person has one grace month to comply with the training requirements of § 91.1705(a) or (b). Therefore, § 91.1705(e) allows a person to accomplish the recurrent training one month after the month it is due.

²⁸ Successful completion of initial/transition training or requalification training within the preceding twelve months satisfies the requirement of recurrent training. A person must successfully complete initial/transition training or requalification training before being eligible to receive recurrent training. 14 CFR 91.1703(e).

Section 91.1715(c) stipulates that completion of a flight review to satisfy the requirements of § 61.56 is valid for operation of a Mitsubishi MU-2B series airplane only if that flight review is conducted in a Mitsubishi MU-2B series airplane, or an MU-2B simulator approved for landings with an approved course conducted under part 142.

Under the extraordinary circumstances of the COVID-19 public health emergency, the FAA supports relief for certain experienced pilots flying MU-2B series airplanes. This relief is not applicable to pilots that are required to complete initial/transition or requalification training in an MU-2B series airplane,²⁹ because these pilots could not meet the qualification requirements.

²⁹ See § 91.1703(c) or (d).

Under this SFAR, a person may obtain two additional grace months to complete the recurrent training requirements.³⁰ To be eligible for this relief, pilots must be qualified under subpart N of part 91 and their base month for completing the recurrent training must fall in March through September 2020. If a pilot completes the recurrent training requirements within the grace period provided by this SFAR, the requirements will be considered to have been completed in the base month. In addition, to ensure there is no adverse impact to safety, the FAA has determined it is necessary to impose certain qualification requirements on pilots seeking to exercise this relief. The qualification requirements are intended to serve as risk mitigations and are described in SFAR 118.³¹

³⁰ This means a person will have a total of three grace months after the due month, because § 91.1705(e) already provides one grace month. The “grace months” are months after the month in which training is due, during which the pilot is still eligible to meet the recurrent training requirements.

³¹ 85 FR 26333.

4. Aeronautical Knowledge Recency (§ 107.65)

Section 107.65 requires remote pilots certificated under part 107 to establish recency of knowledge every 24 calendar months. To meet the recency of knowledge requirement per § 107.65(a) or (b), remote pilots must pass an FAA knowledge test at a knowledge testing center. The initial and recurrent knowledge tests required by § 107.65(a) or (b) cover the comprehensive list of knowledge areas specified in § 107.73(a) or (b), respectively. Section 107.65(c) allows remote pilots who are also certificated under part 61 and have a current flight review in accordance with § 61.56 to complete online training to meet aeronautical knowledge recency. The initial or recurrent training course covers the condensed list of knowledge areas specified in § 107.74(a) or (b), respectively, because the part 61 pilot who has a current flight review has already demonstrated knowledge of many of the topic areas tested on the UAS knowledge test.³²

³² Final Rule, Operation and Certification of Small Unmanned Aircraft Systems, 81 FR 42063, 42164 (Jun. 28 (2016).

Under the extraordinary circumstances of the COVID-19 public health emergency, eligible remote pilots who would normally establish recency of knowledge in accordance with § 107.65(a) or (b) may complete online training as an alternative if required to establish recency between April 2020 and September 2020. The remote pilot may complete the FAA-developed initial or recurrent online training courses ³³ at www.faasafety.gov one time to establish knowledge recency for six calendar months.³⁴ As previously stated, the initial or recurrent online training course covers a condensed list of UAS-specific knowledge areas because it is intended for persons who hold part 61 pilot certificates and satisfy the flight review requirements of § 61.56. The FAA finds that, for a limited duration of time, allowing remote pilots to complete one of these online training courses is an adequate alternative to passing a knowledge test. However, because these courses do not include all the knowledge areas under § 107.73(a) or (b) that a remote pilot is required to be tested on every 24 calendar months, the remote pilot will need to establish knowledge recency in accordance with § 107.65 upon conclusion of the six calendar months. Remote pilots who qualify to establish recency of aeronautical knowledge per § 107.65(c) are not included in this relief. Pilots who use the relief from § 61.56 in this SFAR amendment may establish recency of aeronautical knowledge per § 107.65(c) and retain remote pilot privileges for 24 calendar months.

³³ ALC-451 (Part 107 Small Unmanned Aircraft Systems (small UAS) Initial); ALC-515 (Part 107 Small Unmanned Aircraft Systems (small UAS) Recurrent).

³⁴ On February 13, 2019, the FAA published an NPRM that, if adopted, would update the regulations that govern part 107 operations. In the NPRM, the FAA proposed to amend § 107.65(b) to allow a remote pilot to meet the recency requirements by completing recurrent training (rather than a recurrent knowledge test) covering the areas of knowledge specified in § 107.73. The FAA is therefore actively engaged in rulemaking that, if adopted, would provide the option for taking an online recurrent training course in lieu of a UAS knowledge test to all part 107 certificate holders. The proposed recurrent training course would cover the comprehensive list of knowledge areas set forth in § 107.73, rather than the condensed list of knowledge areas in § 107.74, which are intended for part 61 certificate holders who satisfy the flight review requirements specified in § 61.56. NPRM, Operation of Small Unmanned Aircraft Systems Over People, 84 FR 3856 (Feb. 13, 2019).

5. Part 125 Flight Crewmember Requirements (§§ 125.285, 125.287, 125.289, 125.291, 125.293)

Part 125 certificated operators conduct non-common carriage operations. The FAA issues a Letter of Deviation Authority (LODA) for various kinds of operations to include airplane ferry, sales demonstrations, or training.³⁵ These LODA-holders conduct operations under part 91 and may hold an operating certificate and have operations specifications (OpSpecs).³⁶ The FAA also issues a LODA to an operator that conducts only non-commercial operations (i.e., private use only)—specifically an A125 LODA. Holders of an A125 LODA do not hold an operating certificate or have OpSpecs. Instead, they are issued a letter of authorization (LOA) because the flightcrew members operating under an A125 LODA must comply with the recency, recurrent testing, and proficiency checking requirements of part 125.

³⁵ These are A510, A511, or A512 LODA holders, respectively.

³⁶ Pilots of these LODA-holders comply with the recency, training, and checking requirements of part 61.

Section 125.287 requires a pilot of a part 125 operation to have passed a written or oral test given by the Administrator or a check airman every 12 calendar months and pass a competency check in the type of airplane flown in part 125 operations every 12 calendar months.³⁷ Section 125.289 requires a flight attendant to complete recurrent testing every 12 calendar months. Section 125.293(a) provides for a grace month for crewmembers to complete testing or checking.³⁸ Section 125.291(a) requires that since the beginning of the sixth calendar month before service, the PIC of an airplane in a part 125 operation under IFR must have passed an instrument proficiency check and the Administrator or an authorized check airman has so certified in a letter of competency.³⁹ Finally, § 125.285(a) requires that pilot flight crewmembers complete three takeoffs and landings within the preceding 90 days in the type airplane in which that person is to serve.

³⁷ This section also requires the certificate holder to use a pilot who has passed the written or oral test and competency check within the preceding 12 calendar months.

³⁸ If a crewmember who is required to take a test or check under part 125, if he or she completes the test or check in the calendar month before or after the calendar month in which it is required, that crewmember is considered to have completed the test or check in the calendar month in which it is required.

³⁹ The certificate holder is also required to use a PIC in an airplane of a part 125 IFR operation who has completed the instrument proficiency check within the preceding six calendar months.

The FAA finds, under the extraordinary circumstances of the COVID-19 public health emergency, that allowing two additional grace months for completing the recurrent testing, checking, and training requirements does not present a risk to aviation safety that cannot be mitigated. In addition, the FAA is granting an additional sixty days for completing the three required takeoffs and landings. The requirements of this SFAR ensure that certificate holders and A125 LODA holders demonstrate a plan to mitigate any potential risk introduced by extending flight crewmember qualifications.⁴⁰ The relief applies to requirements for currently qualified flight crewmembers only, whose base month is March through September 2020. It does not apply to requirements for the training and qualification of new personnel. To utilize the relief provided by this SFAR, the certificate holder or A125 LODA holder must provide an acceptable risk mitigation plan as described in SFAR 118.⁴¹ If a certificate holder or A125 LODA holder seeks the relief provided in this amendment, the mitigation plan must include reference to crewmembers whose base month is July through September 2020, as appropriate. This may require an amendment to a previously submitted mitigation plan under the conditions of SFAR 118; however, persons whose base month was March through June 2020 receive no further relief under this portion of the final rule.

⁴⁰ Pilots of other LODA-holders would comply with the applicable relief to part 61 training, recency, testing, and checking requirements.

⁴¹ 85 FR 26334.

6. Robinson R-22/R-44 Special Training and Experience Requirements (SFAR 73)

SFAR 73 established special training and experience requirements for pilots operating the Robinson model R-22 or R-44 helicopters to maintain safe operation of these helicopters.

To act as PIC of a Robinson R-22 or R-44 helicopter, SFAR 73 requires the person to complete the flight review required under § 61.56 in an R-22 or R-44 helicopter, as appropriate to the PIC privileges sought, if the person has at least 200 flight hours in helicopters of which at least 50 flight hours are in the applicable Robinson model helicopter for which the person has PIC privileges.⁴² Otherwise, it requires the person to comply with the endorsement requirements of SFAR 73.⁴³

⁴² An R-44 PIC may credit up to 25 hours of R-22 PIC time towards the 50 hours of PIC time required in the R-44.

⁴³ See 14 CFR part 61, SFAR 73, section 2, paragraph (b)(1) or (2) Aeronautical Experience.

Under the extraordinary circumstances of the COVID-19 public health emergency, the FAA has determined that the PIC of an R-22 or R-44 is compliant with SFAR 73 if the person meets the recency requirements of § 61.56 established in this SFAR in an R-22 or R-44, or both, as appropriate. This relief is limited to Robinson pilots that have at least 200 hours in helicopters of which at least 50 hours are in the applicable Robinson model helicopter for which the person has PIC privileges. Low-time Robinson pilots that are required to complete a flight review every twelve calendar months in accordance with SFAR 73 must continue to comply with that SFAR.

For the relief in this SFAR, the flight review must include SFAR 73 awareness training subjects in paragraph 2(a)(3) and the flight training subjects in paragraph 2(b). R-22 or R-44 pilots whose flight review is due in March through September 2020 may extend an additional three calendar months, provided the pilots meet the requirements prescribed in SFAR 118.⁴⁴

⁴⁴ 85 FR 26335.

B. Relief From Certain Duration and Renewal Requirements

Maintaining the continuity of operations through the relief in section A of this document is important to ensure the stability of essential functions of the U.S. transportation system. The FAA also finds that it is appropriate to provide relief for additional persons for certain duration and renewal requirements because the COVID-19 public health emergency has continued to make compliance difficult. Without extending this short-term relief, some certificate holders will not have the flexibility necessary to schedule testing events or medical exams due to the backlog of required events and the availability of FAA examiners and designees.

The relief discussed more fully in the following sections responds to continued disruptions that have prevented certificate holders from seeking timely renewals of certificates or from completing certain testing activity before expiration dates have passed. Because disruptions have continued as activities begin to resume, the FAA is providing the relief for periods of time deemed necessary to alleviate the burden. The FAA has determined, under the extraordinary circumstances of the COVID-19 public health emergency, that this relief will not adversely affect safety because it is narrowly focused on a small segment of the regulated community, it will be in effect for a short duration, and the regulations will provide safeguards to ensure an appropriate level of safety is maintained.

1. Part 61

The FAA is granting temporary regulatory relief from the validity dates for medical certificates. This relief is further described in B.1.a and B.2.a. The FAA also recognizes that the inability to complete a practical test at this time may still be outside the applicant's control due to the limited number of practical tests currently being conducted. As a result, the FAA is providing relief to extend the knowledge test validity period as described in B.1.b.

a. Medical Certificates: Requirement and Duration (§§ 61.2, 61.23)

Section 61.2(a)(5) states that no person may exercise privileges of a medical certificate issued under 14 CFR part 67 if the medical certificate is expired according to the duration standards set forth in § 61.23(d). Section 61.23(d) states that the duration of a medical certificate depends on the age of the person on the date of the medical examination, the duty position in which the person is serving, the type of operation the person is conducting, and the class of certificate.

On April 1, 2020, the FAA published an Enforcement Policy for Expired Airman Medical Certificates in the Federal Register (85 FR 18110) notifying the public that the Agency would not take legal enforcement action against any person serving as a required pilot flight crewmember or flight engineer based on noncompliance with medical certificate duration standards. The policy was limited to specified certificate expiration dates and to operations within U.S. airspace. The FAA also granted two exemptions relating to the duration of medical certificates, No. 18516 (Regulatory Docket No. FAA-2020-0318) and No. 18515 (Regulatory Docket No. FAA-2020-0317) limited to operations outside U.S. airspace conducted by certain 14 CFR part 119 certificate holders. The FAA incorporated the relief granted in those exemptions into SFAR 118 and expanded it to all pilots to encompass all operations subject to §§ 61.2, 61.23, and 63.3.⁴⁵

⁴⁵ Because the medical certification requirement for flight engineers falls under part 63, rather than part 61, the SFAR relief pertaining to § 63.3 is addressed in Section B.2 of this preamble.

Under the extraordinary circumstances of the COVID-19 public health emergency, the FAA has determined that even as some routine activity is resuming and aviation medical examiners are beginning to see patients for aviation medical examinations, further relief is necessary for a short period of time. In SFAR 118, the FAA extended to June 30, 2020, the validity period of all medical certificates due to expire in March through May 2020. This relief was helpful to many pilots; however, the relief granted some pilots a three-month extension, some pilots a two-month extension, and some pilots a one-month extension. This approach has resulted in four groups of airmen with medical certificates set to expire on the same day. To provide relief to those airmen who continue to be affected by restrictions and recommendations implementing phased reopening, and allow for flexibility in scheduling the medical exams, the FAA is amending the relief in SFAR 118. The FAA has determined that pilots may operate with a medical certificate that has been extended no more than 3 calendar months for a limited time without creating a risk to aviation safety that is unacceptable under the extraordinary circumstances surrounding the COVID-19 public health emergency. For the reasons cited, this final rule revises SFAR 118 to extend the validity period of medical certificates that expire in April through September 2020 to 3 calendar months beyond the original expiration.⁴⁶ Accordingly, those pilots who obtained only a one- or two-month extension under the original SFAR will be granted additional relief not to exceed an extension of three months total. Those pilots who hold medical certificates that would have expired in March 2020 obtain no additional relief under this SFAR, and they must obtain a new medical certificate to continue operating after June 30, 2020. Pilots who hold medical certificates that expire in July, August, and September will have a full three-month extension.

⁴⁶ A medical certificate that was to expire in May 2020 has been extended by three calendar months and is now valid until August 31, 2020. Likewise, a medical certificate that expires in September 2020 is now valid until December 31, 2020.

The FAA notes that the provisions of this SFAR do not extend to the requirements of § 61.53 regarding prohibition on operations during medical deficiency. These prohibitions remain critical for all pilots to observe, especially given the policy of emergency accommodation announced here and the health threat of COVID-19. Accordingly, the FAA emphasizes that under § 61.53, no person who holds a medical certificate issued under 14 CFR part 67 may act as a required pilot flight crewmember while that person:

(1) Knows or has reason to know of any medical condition that would make the person unable to meet the requirements for the medical certificate necessary for the pilot operation; or

(2) Is taking medication or receiving other treatment for a medical condition that results in the person being unable to meet the requirements for the medical certificate necessary for the pilot operation.

b. Prerequisites for Practical Tests (§ 61.39)

Section 61.39 establishes the eligibility requirements for an applicant seeking to take a practical test for a certificate or rating issued under part 61. Among these requirements, an applicant must have passed the required FAA knowledge test within a specified period. Except for the multiengine airplane airline transport pilot (ATP) certificate, FAA knowledge tests are valid for 24 calendar months.⁴⁷ The multiengine airplane ATP knowledge test is valid for 60 calendar months.⁴⁸

⁴⁷ Section 61.39(a)(1)(i) requires the applicant to have passed the required knowledge test within the 24-calendar month period preceding the month the applicant completes the practical test, if a knowledge test is required.

⁴⁸ Section 61.39(a)(1)(ii) requires the applicant to pass the required knowledge test within the sixty-calendar month period preceding the month the applicant completes the practical test for those applicants who complete the ATP certification training program in § 61.156 and pass the knowledge test for an ATP certificate with a multiengine class rating after July 31, 2014.

Because of the COVID-19 public health emergency, an applicant may not have been able to complete a practical test, as planned, prior to the expiration of his or her knowledge test. Applicants continue to have trouble scheduling practical tests. A majority of FAA examiners and designees have not yet resumed practical testing activities. Given the extended period where there were no practical tests being taken, there is a backlog of testing that needs to occur.

If an applicant's knowledge test expires before he or she can complete the practical test, that applicant is required to pass another knowledge test prior to completing the practical test. It costs a person $96-$160 per test,⁴⁹ depending upon the testing location, to take an FAA knowledge test. Therefore, requiring a person whose knowledge test result expired during the COVID-19 public health emergency to take another knowledge test would result in an additional economic burden on the applicant.

⁴⁹ FAA Regulatory Support Division provided knowledge test cost information on April 14, 2020.

The FAA has determined, under the extraordinary circumstances of the COVID-19 public health emergency, that it is necessary to amend the regulatory relief originally provided in SFAR 118 to add the specific class of individuals who have knowledge tests expiring between July 2020 and September 2020. To ensure these individuals are not penalized by having to take another knowledge test, the FAA is extending the validity of knowledge tests by a duration of three calendar months. Therefore, this SFAR will allow an individual who has a knowledge test expiring between March 2020 and September 2020 to present the expired knowledge test to show eligibility under § 61.39(a)(1) to take a practical test for a certificate or rating issued under part 61 for an additional three calendar months.⁵⁰

⁵⁰ Except for a multiengine ATP knowledge test, a knowledge test taken for a pilot certificate or rating in May 2018 would expire in May 2020. With the relief in this SFAR, the passing knowledge test results are valid until August 2020.

In addition to passing a knowledge test, the eligibility requirements for taking a practical test require an applicant to satisfactorily accomplish the required training and obtain the aeronautical experience required for the certificate or rating sought.⁵¹ The regulations also require the applicant to have received flight training from an authorized instructor in preparation for the practical test within the two months preceding the month of the test.⁵² The authorized instructor must endorse the applicant's logbook or training record certifying that the applicant has received and logged this training and is prepared for the required practical test.⁵³ While this amended SFAR will allow certain individuals to use an expired knowledge test, the other requirements in part 61 will ensure the individual is prepared for the practical test, and the evaluator administering the practical test will have the opportunity to determine whether the person is qualified to hold the certificate.⁵⁴ Under the extraordinary circumstances of the COVID-19 public health emergency, and because the relief applies to a specific group of individuals and is limited in duration, the FAA has determined that these regulatory requirements will provide sufficient assurance that there will be no adverse impact to safety.

⁵¹ 14 CFR 61.39(a)(3).

⁵² 14 CFR 61.39(a)(6)(i), 61.99, 61.109, 61.129, 61.313.

⁵³ 14 CFR 61.39(a)(6).

⁵⁴ The regulations require the applicant to pass the practical test on the areas of operation required for the certificate or rating sought. 14 CFR 61.96(b)(7), 61.103(h), 61.123(g), 61.153(h), 61.165(e)(4) and (f)(5), 61.183(h), 61.307(b), 61.405(b)(2).

2. Part 63

As previously described, the FAA is amending the temporary relief from the expiration of medical certificates to provide additional time for airmen to accomplish medical examinations and obtain new medical certificates. Similarly, medical relief for flight engineers is necessary as described in B.2.a. Extending knowledge test passing results for flight engineers is also necessary and explained in B.2.b.

a. Certificates and Ratings Required (§ 63.3)

Section 63.3(b) states that a person may act as a flight engineer of an aircraft only if that person holds a current second-class medical certificate issued to that person under part 67. For the reason previously stated in section B.1.a and subject to the same conditions and limitations, the FAA has determined that flight engineers may operate with a medical certificate that has had its validity period extended for a period not to exceed three calendar months without creating a risk to aviation safety that is unacceptable under the extraordinary circumstances surrounding the COVID-19 public health emergency. Accordingly, the FAA is amending SFAR 118 and extending the validity period for medical certificates that expire in March 2020 through September 2020 by three calendar months.

Consistent with the relief to pilots explained in section B.1.a, flight engineers who obtained only a one- or two-month extension under the original SFAR will be granted additional relief not to exceed an extension of three months total. Those flight engineers who hold medical certificates that would have expired in March 2020 obtain no additional relief under this SFAR amendment, and they must obtain a new medical certificate to continue operating after June 30, 2020. Flight engineers who hold medical certificates that expire in July, August, and September will have a full three-month extension.

The FAA notes that the provisions of this SFAR do not extend to the requirements of § 63.19 regarding prohibition on operations during physical deficiency. These prohibitions remain critical for all flight engineers to observe, especially given the policy of emergency accommodation announced here and the health threat of COVID-19. Accordingly, the FAA emphasizes that under § 63.19, no person who holds a medical certificate issued under 14 CFR part 67 may serve as a flight engineer during a period of known physical deficiency, or increase in physical deficiency, that would make him or her unable to meet the physical requirements for his or her current medical certificate.

b. Flight Engineer Knowledge Requirements (§ 63.35)

Section 63.35 establishes the knowledge requirements for a person seeking a flight engineer certificate. Paragraph (d) states the applicant for a flight engineer certificate or rating must have passed the written tests required by paragraphs (a) and (b) since the beginning of the 24th calendar month before the month in which the flight is taken.⁵⁵

⁵⁵ Exceptions to the 24-calendar month limitation are prescribed in paragraphs (d)(1) for applicants employed as a flight crewmember or mechanic by an air carrier; or (d)(2) for applicants that participated in a military flight engineer or maintenance program.

For the reasons discussed in section B.1.b of this preamble and subject to the same condition and limitations, the FAA is also amending the relief in SFAR 118 to expand it to include persons seeking a flight engineer certificate under part 63 who have written tests expiring between July 2020 and September 2020. Consistent with the relief provided to pilot applicants under part 61, the FAA is extending the validity of written tests under part 63 for a duration of three calendar months. The FAA finds, under the extraordinary circumstances of the COVID-19 public health emergency, that this relief will not adversely affect safety because it is narrowly focused on a small segment of the regulated community, it will be in effect for a short period of time, and the regulations will provide adequate safeguards to ensure an appropriate level of safety is maintained.

3. Part 65

As described for pilots and flight engineers, extending knowledge test and written test results for aircraft dispatchers and mechanics, respectively, is also warranted and further described in B.3.a. and B.3.b. The FAA finds, under the extraordinary circumstances of the COVID-19 public health emergency, that the relief provided to part 65 airmen will not adversely affect safety because it is narrowly focused on a small segment of the regulated community, it will be in effect for a short period of time, and the existing regulations will provide adequate safeguards to ensure an appropriate level of safety is maintained.

a. Dispatcher Knowledge Requirements (§ 65.55)

Section 65.55 establishes the knowledge requirements for a person seeking an aircraft dispatcher certificate. Paragraph (b) requires the applicant for an aircraft dispatcher certificate to present passing knowledge test results within the preceding 24 calendar months.

For the reasons discussed in section B.1.b and subject to the same conditions and limitations, the FAA, under the extraordinary circumstances of the COVID-19 public health emergency, is also amending the relief in SFAR 118 to extend it to persons seeking an aircraft dispatcher certificate under part 65 who have knowledge tests expiring between July 2020 and September 2020. Therefore, consistent with the relief provided to pilot applicants under part 61 and flight engineer applicants under part 63, the FAA is extending the validity of knowledge tests under § 65.55 for a duration of three calendar months. Accordingly, an individual who has a knowledge test expiring between March 2020 and September 2020 may present the expired knowledge test to show eligibility under § 65.55 to take a practical test for an aircraft dispatcher certificate for a period of three calendar months.

b. Eligibility Requirements: General (§ 65.71)

Section 65.71 establishes the eligibility requirements for a mechanic certificate and associated ratings. Paragraph (a)(3) requires an applicant to have passed all the prescribed tests within a period of 24 months from the initiation of testing. Testing for a FAA mechanic certificate includes three tests, which are the written, oral, and practical.⁵⁶ Section 65.75 establishes the knowledge requirements, including the requirement to pass a written test. Section 65.79 contains the skill requirements, including the requirement to pass an oral and practical test. In addition, § 65.71(b) requires a certificated mechanic who applies for an additional rating to meet the experience requirements of § 65.77 and, within a period of 24 months, pass the written test required by § 65.75 and the oral and practical tests required by § 65.79 for the additional rating sought.

⁵⁶ Under part 65, subpart D, the FAA may issue an airframe or powerplant rating. 14 CFR 65.73.

For the reasons discussed in section B.1.b of this preamble, the FAA, under the extraordinary circumstances of the COVID-19 public health emergency, is also amending SFAR 118 and extending the relief to persons seeking a mechanic certificate or rating issued under part 65 who have testing periods expiring between July 2020 and September 2020. Therefore, consistent with the relief provided under parts 61 and 63, the FAA is extending the validity of the testing period under § 65.71 for a duration of three months. Accordingly, an individual who has a testing period expiring in March through September 2020 may show eligibility under § 65.71 to take a practical test for a mechanic certificate or rating provided the testing period does not exceed 27 months.⁵⁷

⁵⁷ If a testing period was to expire on April 30, 2020, this SFAR extends the testing period to July 31, 2020.

IV. Regulatory Notices and Analyses

Changes to Federal regulations must undergo several analyses. First, Executive Orders 12866 and 13563 direct that each Federal agency shall propose or adopt a regulation only upon a reasoned determination that the benefits of the intended regulation justify its costs. In addition, DOT rulemaking procedures in 49 CFR part 5 instruct DOT agencies to issue a regulation upon a reasoned determination that benefits exceed costs. Second, the Regulatory Flexibility Act of 1980 (Pub. L. 96-354), as codified in 5 U.S.C. 603 et seq., requires agencies to analyze the economic impact of regulatory changes on small entities. Third, the Trade Agreements Act of 1979 (Pub. L. 96-39), as codified in 19 U.S.C. chapter 13, prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4), as codified in 2 U.S.C. chapter 25, requires agencies to prepare a written assessment of the costs, benefits, and other effects of proposed or final rules that include a Federal mandate likely to result in the expenditure by State, local, or tribal governments, in the aggregate, or by the private sector, of $100 million or more annually (adjusted for inflation with base year of 1995). The FAA also analyzes this regulation under the Paperwork Reduction Act. This portion of the preamble summarizes the FAA's analysis of the economic impacts of this final rule.

In conducting these analyses, the FAA has determined this rule is not a significant regulatory action, as defined in section 3(f) of Executive Order 12866 and under DOT rulemaking procedures. As notice and comment under 5 U.S.C. 553 are not required for this final rule, the regulatory flexibility analyses described in 5 U.S.C. 603 and 604 regarding impacts on small entities are not required. This rule will not create unnecessary obstacles to the foreign commerce of the United States. This rule will not impose an unfunded mandate on State, local, or tribal governments, or on the private sector, by exceeding the threshold identified previously. To take advantage of the relief from this SFAR, this rule will result in a one-time collection of information for affected operators and pilot schools to submit plans to mitigate safety risks and ensure proficiencies.

A. Regulatory Evaluation

i. Safety and Regulatory Relief Benefits

The provisions in this final rule amend the regulatory relief originally provided in SFAR 118. The amended relief applies to new persons who may have challenges complying with certain training, recent experience, testing, and checking requirements. Without the relief in this SFAR, beginning July 1, 2020, and with each month thereafter, a new group of pilots will become unavailable to perform critical operations due to an inability to comply with regulatory requirements. This relief allows affected operators to continue to use pilots and other crewmembers in support of essential operations during this extended period. In addition, this rule provides regulatory relief to persons unable to meet duration and renewal requirements due to the public health emergency.

The regulatory relief in this amendment will enable the continuity of aviation operations that are critical during the COVID-19 public health emergency and recovery, including operations that support essential services and flights that support response efforts. In addition, this rule contains regulatory relief for persons who are unable to satisfy certain requirements, to prevent those persons from enduring unnecessary economic burdens due to circumstances related to the public health emergency that are outside of their control. This rule also provides additional flexibility for scheduling training and qualification activities as the U.S. transitions from safer-at-home advisories to various phases of reopening.

In addition, this relief applies to some operations conducted by pilots exercising private pilot privileges, provided the pilot has at least 500 hours of total time as a pilot of which 400 hours is as PIC with 50 of the PIC hours accrued in the last twelve calendar months. As previously discussed, the kinds of operations permitted include, but are not limited to, flights to transport essential goods and/or medical supplies to support public health needs. This rule also extends to pilots conducting charitable medical flights for a volunteer pilot organization pursuant to an exemption issued under part 11, provided the pilots continue to comply with the conditions and limitations of the exemption.

In addition to pilots, this rule provides temporary relief to other persons such as flight attendant crewmembers, aircraft dispatchers, flight engineers, mechanics, and instructors. This relief extends to flight attendant crewmembers, check pilots, and flight instructors under subpart K of part 91, and part 125. Finally, this relief applies to operations conducted under part 107 by a person who holds a remote pilot certificate issued under part 107.

ii. Costs To Utilize Relief

This rule will result in small costs for affected operators to notify the FAA and submit plans to mitigate safety risks and ensure proficiencies. To take advantage of the extended relief provided by this rule, an affected certificate holder or A125 LODA holder will be required to submit a new or revised mitigation plan to its assigned FAA principal operations inspector. The plan will contain a safety analysis and corresponding risk mitigations and methods to ensure that each crewmember remains adequately tested and currently proficient for each aircraft, duty position, and type of operation in which the person serves. Similarly, part 91 management specifications holders must also conduct a safety analysis and provide appropriate mitigations in a plan to their FAA principal inspector that addresses potential risks introduced by extending crewmember, check pilot, and flight instructor qualifications, training, and checking. The plan must ensure crewmembers remain adequately trained and currently proficient for each aircraft, crewmember position, and type of operation in which the crewmember serves.

The FAA expects these plans to contain existing information maintained by affected operators. The FAA does not expect these plans to be burdensome.

Therefore, the FAA expects the benefits of this action exceed the costs since it provides additional relief to enable operators to continue to use pilots and other crewmembers in support of essential operations. As a result, this rule will reduce disruption to the continuity of essential services in response to the COVID-19 public health emergency. This rule also provides extended relief from certain duration and renewal requirements to reduce unnecessary risk of exposure and to assure persons that they will not endure economic burdens due to non-compliance with certain regulations.

B. Regulatory Flexibility Act

The Regulatory Flexibility Act (RFA), in 5 U.S.C. 603, requires an agency to prepare an initial regulatory flexibility analysis describing impacts on small entities whenever an agency is required by 5 U.S.C. 553, or any other law, to publish a general notice of proposed rulemaking for any proposed rule. Similarly, 5 U.S.C. 604 requires an agency to prepare a final regulatory flexibility analysis when an agency issues a final rule under 5 U.S.C. 553, after being required by that section or any other law to publish a general notice of proposed rulemaking. The FAA found good cause to forgo notice and comment and any delay in the effective date for this rule. As notice and comment under 5 U.S.C. 553 are not required in this situation, the regulatory flexibility analyses described in 5 U.S.C. 603 and 604 are not required.

C. International Trade Impact Assessment

The Trade Agreements Act of 1979 (Pub. L. 96-39) prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that its purpose has a legitimate domestic objective to promote the continuity and safety of U.S. civil aviation from risks of the COVID-19 public health emergency while supporting essential services necessary to fight the public health emergency. Therefore, the FAA has determined this final rule complies with the Trade Agreements Act of 1979.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million.

This final rule does not contain such a mandate. Therefore, the requirements of Title II of the Act do not apply.

E. Paperwork Reduction Act

The Paperwork Reduction Act of 1995 (44 U.S.C. 3507(d)) requires that the FAA consider the impact of paperwork and other information collection burdens imposed on the public.

As previously discussed, to utilize the temporary relief provided by this SFAR amendment, an affected certificate holder or a part 125 LODA holder must provide a plan to its assigned FAA principal operations inspector. The plan is to contain a safety analysis and corresponding risk mitigations and methods to ensure that each crewmember remains adequately tested and currently proficient for each aircraft, duty position, and type of operation in which the person serves.

While SFAR 118 provided relief in the form of a grace period for those entities whose base month for completing the recurrent testing, checking, and training requirements was March, April, May, or June 2020, this final rule extends the grace period to those whose base month falls in July 2020 through September 2020. A part 125 certificate holder or A125 LODA holder will, therefore, be required to submit a new or revised mitigation plan to take advantage of the relief provided in this amendment.

In SFAR 118, the FAA estimated that of the 69 part 125 certificate holders and A125 LODA holders, all would avail themselves of the relief provided by SFAR 118, and therefore would be required to provide mitigation plans to their assigned principal operations inspector. For this final rule, the FAA estimates that those same 69 part 125 certificate holders and A125 LODA holders will avail themselves of the extended grace period for those entities whose base month falls in July, August, and September 2020 and will submit new or revised mitigation plans. The FAA continues to estimate that each respondent would spend two hours preparing and submitting its plan, for a total of 138 hours. The FAA believes the additional paperwork burden would be borne by the director of operations. At $51 per hour multiplied by 138 total hours, the FAA estimates the total burden to part 125 certificate holders and A125 LODA holders for this amendment to be $7,038.⁵⁸ Therefore, the total burden of this collection is estimated to be $14,076.⁵⁹

⁵⁸ The FAA is using the BLS wage rate for commercial pilots of $39.54 per hour (https://www.bls.gov/ooh/transportation-and-material-moving/airline-and-commercial-pilots.htm) ($82,240/2080 hours = $39.54) multiplied by a fringe benefit multiplier of 29.9 percent (https://www.bls.gov/news.release/ecec.nr0.htm) which results in an hourly wage of $51.

⁵⁹ The burden for the original plan submission from SFAR 118 was $7,038. That is added to the amendment burden for new or revised plan submissions of $7,038 for a total of $14,076.

The FAA estimates that it would require an Aviation Safety Inspector (ASI) one hour to review and analyze a plan submitted by a part 125 certificate holder or A125 LODA holder. With 69 part 125 certificate holders or A125 LODA holders estimated to have submitted a plan to take advantage of the relief in SFAR 118 and the same 69 part 125 certificate holders and A125 LODA holders expected to submit a new or revised plan for this amendment, the total number of plans for review by an ASI is 138. The total number of plans to review multiplied by the hourly wage of a GS-13 FAA ASI results in an estimated burden to the FAA of $13,720 (138 responses × 1 hour × $99.42 = $13,720).⁶⁰

⁶⁰ The FAA assumes a mid-grade GS-13 salary, Rest of USA locality. Annual salary is $103,396 (https://www.opm.gov/policy-data-oversight/pay-leave/salaries-wages/salary-tables/pdf/2020/RUS.pdf) divided by 2,080 hours for an hourly rate of $49.70. The FAA uses a fringe benefits and overhead cost, for FAA employees, of 100%, which results in a fully loaded wage of $99.42 per hour. The U.S. Department of Health and Human Services, “Guidelines for Regulatory Impact Analysis” (2016), on page 30, HHS states, “As an interim default, while HHS conducts more research, analysts should assume overhead costs (including benefits) are equal to 100 percent of pretax wages . . .” (https://aspe.hhs.gov/system/files/pdf/242926/HHS_RIAGuidance.pdf).

As provided under 5 CFR 1320.13, Emergency Processing, and the Paperwork Reduction Act and its implementing regulations, DOT is requesting emergency processing to amend the temporary collection of information previously approved under emergency processing with the original SFAR (OMB 2120-0788). DOT cannot reasonably comply with normal clearance procedures because the information is necessary to provide temporary relief to persons who have been unable to meet certain requirements during the COVID-19 public health emergency. Without this information, certain individuals will not be able to continue exercising privileges in support of essential operations due to their inability to satisfy certain training, recent experience, testing, and checking requirements. In addition, other individuals may—to the extent possible given closures—attempt to satisfy requirements contrary to the national social distancing guidelines solely to avoid economic burdens resulting from non-compliance with FAA regulations. The use of normal clearance procedures will result in increased economic burden, disruption to critical aviation operations, and increased risk of exposure during this public health emergency. Due to the pressing considerations associated with the COVID-19 public health emergency, it is not practicable to afford ninety days of public comment on this collection of information. Therefore, FAA is requesting OMB approval of this temporary collection of information upon the date that this SFAR is placed on public inspection at the Federal Register. Upon OMB approval of its Emergency clearance request, FAA will follow the normal clearance procedures for the information collection associated with this SFAR.

F. International Compatibility

In keeping with U.S. obligations under the Convention on International Civil Aviation, it is FAA policy to conform to International Civil Aviation Organization (ICAO) Standards and Recommended Practices (SARPs) to the maximum extent practicable. On April 3, 2020, ICAO issued a State Letter (AN 11/55-20/50) to address operational measures States are taking to ensure safe operations during the COVID-19 public health emergency. ICAO recognized the varying needs of the States to provide relief and encouraged States to be flexible in their approaches for relief while also adhering to their obligations under the Convention on International Civil Aviation. During this period of relief, ICAO is paying particular attention to the SARPs related to certificates and licenses. ICAO has established a process for States to file temporary differences through a COVID-19 Contingency-Related Differences (CCRDs) sub-system, which is accessible through ICAO's Continuous Monitoring Approach (CMA) Online Framework of Electronic Filing of Differences (EFOD) dashboard that States use normally to file differences related to the Annexes. When States are submitting their differences, ICAO is requiring the State also to indicate whether it will recognize the differences of other States. FAA has already filed temporary differences with some of the relief it has given through exemptions under 14 CFR part 11 and has indicated it will recognize other States' differences unless the FAA deems safety is being compromised. ICAO tentatively plans to maintain the CCRD sub-system through March 31, 2021.

The FAA has reviewed the corresponding ICAO SARPs and has identified the following differences with these proposed regulations. In Annex 1, section 1.2.4.4.1, a medical assessment can be extended at the FAA's discretion up to 45 days. With this final rule, the FAA is extending the validity by three calendar months for pilots with expiring medicals between April 2020 and September 2020. As a result, the FAA will update the temporary difference filed with ICAO.

In Annex 6, Part 2, Section 3.9.4.2, a PIC is required to have made three takeoffs and landings within the preceding ninety days on the same type of airplane or in a flight simulator prior to serving as a PIC in that airplane. With this final rule, the FAA is extending the look-back period by sixty days for PICs conducting operations under part 91, subpart N, and part 125 operations. As a result, the FAA will update the temporary difference filed with ICAO.

In Annex 6, Part 2, Section 3.9.4.3, an SIC is required to have made three takeoffs and landings within the preceding ninety days on the same type of airplane or in a flight simulator prior to serving as a SIC in that airplane. With this final rule, the FAA is extending the look-back period by sixty days for SICs conducting operations under part 91, subpart N, and part 125 operations. As a result, the FAA will update the temporary difference filed with ICAO.

Apart from this SFAR's application within the United States, certificate holders or operators may dispatch or release flights, and pilots and crewmembers may operate outside of the United States under this SFAR, unless otherwise prohibited by a foreign country. For international operations where pilots and crewmembers will exercise the relief identified here, they must have access to this SFAR when outside the United States. In accordance with the Convention on International Civil Aviation (Chicago Convention), and its Annexes, pilots and crewmembers must present a copy of this SFAR for inspection upon request by a foreign civil aviation authority.

V. Executive Order Determinations

A. Executive Order 12114, Environmental Effects Abroad of Major Federal Actions

The FAA has analyzed this action under Executive Order 12114, Environmental Effects Abroad of Major Federal Actions (44 FR 1957, January 4, 1979), and DOT Order 5610.1C, Paragraph 16. Executive Order 12114 requires the FAA to be informed of environmental considerations and take those considerations into account when making decisions on major Federal actions that could have environmental impacts anywhere beyond the borders of the United States. Like SFAR 118, the FAA has determined that this action is exempt pursuant to Section 2-5(a)(i) of Executive Order 12114 because it does not have the potential for a significant effect on the environment outside the United States.

In accordance with FAA Order 1050.1F, Environmental Impacts: Policies and Procedures, paragraph 8-6(c), the FAA has prepared a memorandum for the record stating the reason(s) for this determination and has placed it in the docket for SFAR 118 (the same docket for this rulemaking). The FAA reviewed the memorandum it added to the docket to support SFAR 118 and finds the determination applies to this rule unchanged.

B. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have federalism implications.

C. Executive Order 13211, Regulations That Significantly Affect Energy Supply, Distribution, or Use

The FAA analyzed this final rule under Executive Order 13211, Actions Concerning Regulations that Significantly Affect Energy Supply, Distribution, or Use (May 18, 2001). The agency has determined that it is not a “significant energy action” under the Executive order and it is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. As described in Section IV. F., International Compatibility, the FAA is working with ICAO and other foreign Civil Aviation Authorities (CAAs) on the kind of relief provided by this SFAR. The FAA has analyzed this action under the policies and agency responsibilities of Executive Order 13609, and has determined that this action would have no effect on international regulatory cooperation. The provisions in this final rule provide temporary relief to persons who are unable to meet certain requirements during the COVID-19 public health emergency and prevents persons from encountering situations that would unnecessarily increase the risk of transmission of the virus through personal contact.

F. Executive Order 13771, Reducing Regulation and Controlling Regulatory Costs

This rule is not an E.O. 13771 regulatory action because this rule is not significant under E.O. 12866.

VI. How To Obtain Additional Information

A. Availability of Rulemaking Documents

An electronic copy of a rulemaking document may be obtained by using the internet —

1. Search the Federal eRulemaking Portal (https://www.regulations.gov/);

2. Visit the FAA's Regulations and Policies web page at https://www.faa.gov/regulations_policies/ or

3. Access the Government Printing Office's web page at https://www.govinfo.gov/.

Copies may also be obtained by sending a request (identified by notice, amendment, or docket number of this rulemaking) to the Federal Aviation Administration, Office of Rulemaking, ARM-1, 800 Independence Avenue SW, Washington, DC 20591, or by calling (202) 267-9677.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA, visit https://www.faa.gov/regulations_policies/rulemaking/sbre_act/.

List of Subjects

14 CFR Part 21

Aircraft, Aviation safety, Exports, Imports, Reporting and recordkeeping requirements.

14 CFR Part 61

Aircraft, Airmen, Aviation safety, Reporting and recordkeeping requirements, Security measures, Teachers.

14 CFR Part 63

Aircraft, Airman, Aviation safety, Navigation (air), Reporting and recordkeeping requirements, Security measures.

14 CFR Part 65

Air traffic controllers, Aircraft, Airmen, Airports, Aviation safety, Reporting and recordkeeping requirements, Security measures.

14 CFR Part 91

Air carrier, Air taxis, Air traffic control, Aircraft, Airmen, Airports, Aviation safety, Charter flights, Freight, Reporting and recordkeeping requirements, Transportation.

14 CFR Part 107

Aircraft, Airmen, Aviation safety, Reporting and recordkeeping requirements, Security measures, Signs and symbols.

14 CFR Part 125

Aircraft, Airmen, Aviation safety, Reporting and recordkeeping requirements.

14 CFR Part 141

Airmen, Educational facilities, Reporting and recordkeeping requirements, Schools.

The Amendment

In consideration of the foregoing, the Federal Aviation Administration amends chapter I of title 14, Code of Federal Regulations, as follows:

PART 21—CERTIFICATION PROCEDURES FOR PRODUCTS AND ARTICLES

1. The authority citation for part 21 continues to read as follows:

Authority: 42 U.S.C. 7572; 49 U.S.C. 106(f), 106(g), 40105, 40113, 44701-44702, 44704, 44707, 44709, 44711, 44713, 44715, 45303.

2. Remove Special Federal Aviation Regulation (SFAR) No. 118 from part 21 and add, in its place, SFAR No. 118-1 to part 21 to read as follows:

Special Federal Aviation Regulation No. 118-1—Relief for Certain Persons During the National Emergency Concerning the Novel Coronavirus Disease (COVID-19) Public Health Emergency

For the text of SFAR No. 118-1, see part 61 of this chapter.

PART 61—CERTIFICATION: PILOTS, FLIGHT INSTRUCTORS, AND GROUND INSTRUCTORS

3. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note).

4. Remove Special Federal Aviation Regulation (SFAR) No. 118 from part 61 and add, in its place, SFAR No. 118-1 to part 61 to read as follows:

Special Federal Aviation Regulation No. 118-1—Relief for Certain Persons During the National Emergency Concerning the Novel Coronavirus Disease (COVID-19) Public Health Emergency

1. Applicability. This Special Federal Aviation Regulation (SFAR) applies to—

(a) Certain persons who are unable to meet the following requirements during some period between March 1, 2020 and September 30, 2020—

(1) Training, recency, testing and checking requirements specified in parts 61, 91, 107, and 125 of this chapter, and SFAR No. 73 of this part; and

(2) Duration and renewal requirements specified in parts 61, 63, 65, and 141 of this chapter, and SFAR No. 100-2 of this part; and

(b) Certain air carriers and operators who are unable to obtain special flight permits with a continuing authorization under part 21 of this chapter for the purpose of flying the aircraft to a point of storage.

2. Training, recency, testing, and checking requirements.

(a) Applicability. The relief provided by paragraph 2 of this SFAR applies to—

(1) Operations conducted for compensation or hire under parts 91, 125, 133, and 137 of this chapter by persons who are exercising the privileges of at least a commercial pilot certificate issued under this part;

(2) Operations conducted by persons who are exercising the privileges of a private pilot certificate issued this part, provided the person meets one of the following paragraphs—

(i) The person is conducting a charitable medical flight for a volunteer pilot organization pursuant to an exemption issued under part 11 of this chapter, and the flight involves only the carriage of persons considered essential for the flight;

(ii) The person is conducting an agricultural aircraft operation under a private agricultural aircraft operating certificate issued in accordance with § 137.19 of this chapter;

(iii) The person has at least 500 hours of total time as a pilot, that includes at least 400 hours as a pilot in command and at least 50 hours that were accrued within the preceding 12 calendar months, and the person is conducting one of the following operations consistent with the compensation or hire exceptions specified in § 61.113:

(A) A flight incidental to that person's business or employment;

(B) A flight in support of family medical needs or to transport essential goods for personal use;

(C) A flight necessary to fly an aircraft to a location in order to meet a requirement of this chapter; or

(D) A flight to transport essential goods and medical supplies to support public health needs;

(3) For operations conducted under part 91, subpart K, and part 125 of this chapter, persons who are serving as flight attendant crewmembers, check pilots, and flight instructors; and

(4) Operations conducted under part 107 of this chapter by a person who holds a remote pilot certificate issued under part 107 of this chapter.

(b) This Part.

(1) Second-in-command qualifications of § 61.55. (i) Airmen requirements. Notwithstanding the period specified in § 61.55(c) of this chapter, a person who is required to complete the second-in-command familiarization and currency requirements under § 61.55(b)(1) and (2) between March 1, 2020 and September 30, 2020 for purposes of maintaining second-in-command privileges may complete the requirements of § 61.55(b)(1) and (2) in the month before or three months after the month in which they are required, provided the pilot meets the requirements of paragraph 2.(b)(1)(ii) of this SFAR. A pilot who meets the requirements of § 61.55(b)(1) and (2) within the period prescribed by this paragraph 2.(b)(1)(i) will be considered to have completed the requirements in the month in which they were due.

(ii) Qualification requirements. To complete the requirements of § 61.55(b)(1) or (2) within the period specified in paragraph 2.(b)(1)(i) of this SFAR, the person—

(A) Must review and become familiar with the following information for the specific type of aircraft for which second-in-command privileges are sought—

(1) Operational procedures applicable to the powerplant, equipment, and systems;

(2) Performance specifications and limitations;

(3) Normal, abnormal, and emergency operating procedures;

(4) Flight manual; and

(5) Placards and markings; and

(B) Prior to serving as second-in-command, must have logged at least three takeoffs and landings to a full stop as the sole manipulator of the flight controls within the 180 days preceding the date of the flight.

(2) Flight review requirements of § 61.56. A person who has not completed a flight review within the previous 24 calendar months in accordance with § 61.56 may continue to act as pilot in command of an aircraft, provided the following requirements are met—

(i) Airmen requirements. The person was current to act as pilot in command of an aircraft in March 2020 and, to maintain currency, is required to complete a flight review under § 61.56 between March 1, 2020 and September 30, 2020.

(ii) Qualification requirements. To act as pilot in command of an aircraft during the period specified in paragraph 2.(b)(2)(iii) of this SFAR, the person must have—

(A) Within the 12 calendar months preceding the month in which the flight review is due, logged at least 10 hours of flight time as pilot in command in an aircraft for which that pilot is rated; and

(B) Since January 1, 2020 and preceding the date of flight, completed online Wings courses for pilots from the FAA Safety Team website, available at www.faasafety.gov. The online training courses must total at least 3 Wings credits.

(iii) Grace period. The person may act as pilot in command of an aircraft for a duration of three calendar months from the month in which the flight review was due. Before acting as pilot in command of an aircraft in the fourth month after the month in which the flight review was due, the person must satisfactorily complete a flight review in accordance with § 61.56.

(3) Instrument experience requirements of § 61.57. A person who has not performed and logged the tasks required by § 61.57(c)(1) within the 6 calendar months preceding the month of the flight may continue to act as pilot in command under IFR or in weather conditions less than the minimums prescribed for VFR, provided the following requirements are met—

(i) Qualification requirements. The person has—

(A) Within the 6 calendar months preceding the month of the flight, performed and logged at least three instrument approaches in actual weather conditions, or under simulated conditions using a view-limiting device; and

(B) Within the 9 calendar months preceding the month of the flight, performed and logged the tasks required by § 61.57(c)(1).

(ii) Grace period. Between April 30, 2020 and September 30, 2020, a person who meets the qualification requirements of paragraph 2.(b)(3)(i) of this SFAR may act as pilot in command under IFR or in weather conditions less than the minimums prescribed for VFR.

(iii) Instrument currency after September 30, 2020. Before acting as pilot in command under IFR or in weather conditions less than the minimums prescribed for VFR after September 30, 2020, the person must comply with § 61.57(c).

(4) Pilot in command proficiency check requirements of § 61.58. (i) Airmen requirements. Notwithstanding the period specified in § 61.58(i), a pilot who is required to take a pilot in command proficiency check under § 61.58(a)(1) or (2) between March 1, 2020 and September 30, 2020 for purposes of maintaining pilot in command privileges may complete the check in the month before or three months after the month in which it is required, provided the pilot meets the requirements of paragraph 2.(b)(4)(ii) of this SFAR. A pilot who completes the proficiency check within the period prescribed by this paragraph 2.(b)(4)(i) will be considered to have completed the check in the month in which it was required.

(ii) Qualification requirements. To complete the pilot in command proficiency check required by § 61.58(a)(1) or (2) within the period specified in paragraph 2.(b)(4)(i) of this SFAR, the person—

(A) Must meet the flight experience requirements of § 61.57 that are applicable to the operation to be conducted; and

(B) Within the 3 calendar months preceding the month of the flight, must have reviewed the following information for the specific type of aircraft for which pilot in command privileges are sought—

(1) Operational procedures applicable to the powerplant, equipment, and systems;

(2) Performance specifications and limitations;

(3) Normal, abnormal, and emergency operating procedures;

(4) Flight manual; and

(5) Placards and markings.

(5) Flight Crewmember Requirements of Part 91, Subpart K, of this Chapter.

(i) Testing and checking Requirements. Notwithstanding the period specified in § 91.1071(a) of this chapter, a crewmember who is required to take a test or a flight check under § 91.1065(a), § 91.1065(b), § 91.1067, § 91.1069(a), or § 91.1069(b) of this chapter between March 1, 2020 and September 30, 2020 for purposes of maintaining qualification may complete the test or check in the month before or three months after the month it is required, provided the requirements of paragraph 2.(b)(5)(vi) of this SFAR are met. A crewmember who completes a test or check in accordance with this paragraph will be considered to have completed the test or check in the month in which it was required.

(ii) Recurrent training requirements. Notwithstanding the period specified in § 91.1073(b) of this chapter, a crewmember who is required to complete recurrent training under §§ 91.1099 or 91.1107(c) of this chapter between March 1, 2020 and September 30, 2020 for purposes of maintaining qualification may complete that training in the month before or three months after the month in which it is required, provided the requirements of paragraph 2.(b)(5)(vi) of this SFAR are met. A crewmember who completes recurrent training in accordance with this paragraph 2.(b)(5(ii) will be considered to have completed the training in the month in which it was required.

(iii) Instrument experience.

(A) Precision instrument approaches. A pilot who has not satisfactorily demonstrated the type of precision instrument approach procedure to be used within the previous six months in accordance with § 91.1069(c) of this chapter may continue to use that type of approach procedure, provided the following requirements are met—

(1) Airmen requirements. The person was current under § 91.1069(c) of this chapter to use that type of precision instrument approach procedure in March 2020, and is required to demonstrate that type of precision instrument approach procedure between March 1, 2020 and September 30, 2020.

(2) Grace period. The person satisfactorily demonstrates that type of precision instrument approach procedure within three months after the month in which it was required.

(3) Safety mitigations. The management specification holder satisfies paragraph 2.(b)(5)(vi) of this SFAR.

(B) Non-precision instrument approaches. A pilot who has not satisfactorily demonstrated either the type of non-precision instrument approach procedure to be used, or any other two different types of non-precision approach procedures, within the previous six months in accordance with § 91.1069(c) of this chapter may continue to use that type of non-precision instrument approach procedure, provided the following requirements are met—

(1) Airmen requirements. The person was current under § 91.1069(c) of this chapter to use that type of non-precision instrument approach procedure in March 2020, and is required to demonstrate that type of non-precision instrument approach procedure, or any other two different types of non-precision instrument approach procedures, between March 1, 2020 and September 30, 2020.

(2) Grace period. The person satisfactorily demonstrates that type of non-precision instrument approach procedure within three months after the month in which it was required.

(3) Safety mitigations. The management specification holder satisfies paragraph 2.(b)(5)(vi) of this SFAR.

(iv) Check pilot (simulator) and flight instructor (simulator) requirements. Notwithstanding the period specified in §§ 91.1089(g) and 91.1091(g) of this chapter, a check pilot (simulator) or flight instructor (simulator) who is required to complete the flight segments or line-observation program under § 91.1089(f) or § 91.1091(f) of this chapter between March 1, 2020 and September 30, 2020 for purposes of maintaining qualification may complete the flight segments or line-observation program requirements in the month before or three months after the month they are required, provided the requirements of paragraph 2.(b)(5)(vi) of this SFAR are met. A check pilot (simulator) or flight instructor (simulator) who completes the flight segments or line-observation program requirements in accordance with this paragraph 2.(b)(5)(iv) will be considered to have completed the requirements in the month in which they were due.

(v) Check pilot and flight instructor observation check requirements. Notwithstanding the period specified in §§ 91.1093(b) and 91.1095(b) of this chapter, a check pilot or flight instructor who is required to complete an observation check under § 91.1093(a)(2) or § 91.1095(a)(2) of this chapter between March 1, 2020 and September 30, 2020 for purposes of maintaining qualification may complete the observation check in the month before or three months after the month it is required, provided the requirements of paragraph 2.(b)(5)(vi) of this SFAR are met. A check pilot or flight instructor who completes an observation check in accordance with this paragraph 2.(b)(5)(v) will be considered to have completed the check in the month it which it was due.

(vi) Safety mitigations. The management specification holder must provide an acceptable plan to the responsible Flight Standards office that contains the following information—

(A) A safety analysis and corresponding risk mitigations to be implemented by the management specification holder; and

(B) The method the management specification holder will use to ensure that each crewmember complying with paragraph 2.(b)(5) of this SFAR remains adequately tested and currently proficient for each aircraft, duty position, and type of operation in which the person serves.

(6) Mitsubishi MU-2B Series Special Training, Experience, and Operating Requirements of Part 91, Subpart N, of this Chapter.

(i) Recurrent training. Notwithstanding the period specified in § 91.1705(e) of this chapter, a person who is required to complete recurrent training under § 91.1703(e) of this chapter between March 1, 2020 and September 30, 2020 for purposes of complying with § 91.1705(a) and (b) may complete the recurrent training in the month before or three months after the month the recurrent training is required, provided the requirements of paragraph 2.(b)(6)(iii) of this SFAR are met. A person who completes the recurrent training in accordance with this paragraph 2.(b)(6)(i) will be considered to have completed the training in the month it was required.

(ii) Flight review. A person who has not completed a flight review in accordance with §§ 61.56 and 91.1715(c) of this chapter in a Mitsubishi MU-2B series airplane or an MU-2B Simulator approved for landings with an approved course conducted under part 142 of this chapter may continue to act as pilot in command of a Mitsubishi MU-2B series airplane, providing the following requirements are met—

(A) Airmen requirements. The person was—

(1) Current to act as pilot in command of a Mitsubishi MU-2B series airplane in March 2020 and, to maintain currency, is required to complete a flight review in a Mitsubishi MU-2B series airplane between March 1, 2020 and September 30, 2020; and

(2) The requirements of paragraph 2.(b)(6)(iii) of this SFAR are met.

(B) Grace period. The person may act as pilot in command of a Mitsubishi MU-2B series airplane for a duration for three calendar months from the month in which the flight review was due. Before acting as pilot in command of an aircraft in the fourth month after the month in which the flight review was due, the person must satisfactorily complete a flight review in accordance with §§ 61.56 and 91.1715(c) of this chapter in a Mitsubishi MU-2B series airplane or an MU-2B Simulator approved for landings with an approved course conducted under part 142 of this chapter.

(iii) Qualification requirements. To complete the recurrent training or flight review during the grace period provided under paragraph 2.(b)(6) of this SFAR, the person must—

(A) Within the 12 calendar months preceding the month the recurrent training or flight review is due, logged at least 10 hours of flight time in an MU-2B series airplane that includes at least 3 hours of flight time in the 3 calendar months preceding the month in which the recurrent training or flight review is due;

(B) Since January 1, 2020, completed online Wings courses for pilots from FAA Safety Team website, available at www.faasafety.gov. The online training courses must total at least 3 Wings credits; and

(C) Prior to manipulating the controls of an MU-2B series airplane, completed three hours of self-study, since January 1, 2020 and preceding the date of the flight, on the following subjects—

(1) The ground training curriculum required by § 91.1705(h)(1) of this chapter;

(2) The Special Emphasis Items listed in the approved MU-2B training program that the pilot last completed;

(3) The limitations, procedures, aircraft performance, and MU-2B Cockpit Checklist procedures applicable to the MU-2B model to be flown, which are contained in the flight training curriculum required by § 91.1705(h)(2) of this chapter; and

(4) The current general operating and flight rules of part 91 of this chapter.

(7) Aeronautical Knowledge Recency Requirements of § 107.65 of this Chapter. A person who has not satisfied the aeronautical knowledge recency requirements of § 107.65(a) or (b) of this chapter within the previous 24 calendar months may operate a small unmanned aircraft system under part 107 of this chapter, provided that person meets the following requirements—

(i) Airmen requirements. The person was current to exercise the privileges of a remote pilot certificate in March 2020 and, to maintain aeronautical currency, is required to meet the aeronautical recency requirements in § 107.65(a) or (b) of this chapter between April 1, 2020 and September 30, 2020.

(ii) Qualification requirements. The person must have completed an FAA-developed initial or recurrent online training course, available at www.faasafety.gov, covering the areas of knowledge specified in § 107.74(a) or (b) of this chapter. Each person is eligible to take an online training course specified in this paragraph 2.(b)(7)(ii) one time for the purpose of obtaining the six calendar month grace period specified in paragraph 2.(b)(7)(iii) of this SFAR;

(iii) Grace period. The person may operate a small unmanned aircraft system under part 107 of this chapter for a duration of six calendar months from the month in which the person completed the online training course specified in paragraph 2.(b)(7)(ii) of this SFAR. Before operating a small unmanned aircraft system under part 107 in the seventh month after the month in which the person completed the online training course, the person must satisfy § 107.65 of this chapter.

(8) Flight Crewmember Requirements of Part 125 of this Chapter.

(i) Recent experience requirements. A person who has not satisfied the recent experience requirements of § 125.285(a) of this chapter may be used by a certificate holder (or holder of an A125 letter of deviation authority), and may serve as a required pilot flight crewmember, in operations conducted under part 125 of this chapter, provided the following requirements are met—

(A) Grace period. The person has made at least three takeoffs and landings, within the preceding 150 days, in the type of airplane in which that person is to serve.

(B) Safety Mitigations. The certificate holder complies with paragraph 2.(b)(8)(iii) of this SFAR.

(ii) Testing and checking requirements. Notwithstanding the period specified in § 125.293(a) of this chapter, a crewmember who is required to take a test or check under § 125.287(a), § 125.287(b), § 125.289, or § 125.291(a) of this chapter between March 1, 2020 and September 30, 2020 for purposes of maintaining qualifications may complete the test or check in the month before or three months after the month it is required, provided the requirements of paragraph 2.(b)(8)(iii) of this SFAR are met. A crewmember who completes the test or check in accordance with this paragraph 2.(b)(8)(ii) will be considered to have completed the test or check in the month in which it was required.

(iii) Safety mitigations. The certificate holder (or holder of an A125 letter of deviation authority) must provide an acceptable plan to its assigned principal operations inspector that contains the following information—

(A) A safety analysis and corresponding risk mitigations to be implemented by the certificate holder (or holder of an A125 letter of deviation authority); and

(B) The method the certificate holder (or holder of an A125 letter of deviation authority) will use to ensure that each crewmember complying with paragraph 2.(b)(8) of this SFAR remains adequately tested and currently proficient for each aircraft, duty position, and type of operation in which the person serves.

(9) Robinson R-22/R-44 Special Training and Experience Requirements of SFAR No. 73 of this Part. A person who has not completed a flight review in a Robinson model R-22 or R-44 helicopter, as appropriate, within the preceding 24 calendar months in accordance with paragraph 2(c) of SFAR No. 73 and § 61.56, may continue to act as pilot in command of a Robinson model R-22 or R-44 helicopter, as appropriate, providing the following requirements are met—

(i) Airmen requirements. The person was current to act as pilot in command of a Robinson model R-22 or R-44 helicopter, as appropriate, in March 2020 and, to maintain currency, is required to complete a flight review in a Robinson model R-22 or R-44 helicopter, as appropriate, between March 1, 2020 and September 30, 2020.

(ii) Qualification requirements. The person must—

(A) Satisfy the qualification requirements specified in paragraph 2.(b)(2)(ii) of this SFAR, except

(1) The 10 hours of flight time as pilot in command must be obtained in a Robinson model R-22 or R-44 helicopter, as appropriate to the privileges sought;

(2) At least 3 hours of flight time must be obtained within the 3 calendar months preceding the month in which the flight review is due; and

(3) The courses required by paragraph 2.(b)(9)(ii)(C) and (D) of this SFAR may count towards the 3 Wings credits.

(B) Complete three hours of self-study, since January 1, 2020 and preceding the date of flight, on the following subjects—

(1) The awareness training subject areas specified in paragraph 2.(a)(3)(i) through (v) of SFAR No. 73 of this part;

(2) The current general operating and flight rules of part 91 of this chapter;

(3) Robinson R-22 or R-44 Maneuvers Guide, as applicable to the model(s) in which the airmen holds pilot in command privileges;

(C) Complete Course ALC-103: Helicopter Weight and Balance, Performance at www.faasafety.gov; and

(D) Complete Course ALC-104: Helicopter—General and Flight Aerodynamics at www.faasafety.gov.

(iii) Grace period. A person may act as a pilot in command of a Robinson model R-22 or R-44 helicopter, as appropriate, for a duration of three calendar months from the month in which the flight review was due. Before acting as pilot in command of an aircraft in the fourth month after the month in which the flight review was due, the person must satisfactorily complete a flight review in a Robinson model R-22 or R-44 helicopter, as appropriate to the privileges sought, in accordance with paragraph 2(c) of SFAR No. 73 of this part and § 61.56.

3. Duration and renewal requirements.

(a) This Part.

(1) Extension of medical certificate duration requirements. The expiration date of a first-, second-, or third- class medical certificate that expires between March 31, 2020 and September 30, 2020 is extended three calendar months from the duration established in § 61.23(d) of this part. A certificate extended under this paragraph 3.(a)(1) is considered valid under § 61.2(a)(5). Unless otherwise prohibited by a foreign country, a person may operate outside of the United States under this paragraph 3.(a)(1) if the person—

(i) Has access to this SFAR when outside the United States; and

(ii) Presents a copy of this SFAR for inspection upon request by a foreign Civil Aviation Authority in accordance with the Convention on International Civil Aviation (Chicago Convention), and its Annexes.

(2) Extension of knowledge test duration requirements in § 61.39. An applicant for a certificate or rating issued under part 61 of this chapter may satisfy the eligibility requirement in § 61.39(a)(1) by passing the required knowledge test:

(i) Within the 27-calendar month period preceding the month the applicant completes the practical test, if a knowledge test is required, provided the knowledge test was passed between March 1, 2018 and September 30, 2018; or

(ii) Within the 63-calendar month period preceding the month the applicant completes the practical test for those applicants who complete the airline transport pilot certification training program in § 61.156 and pass the knowledge test for an airline transport pilot certificate with a multiengine class rating, provided the knowledge test was passed between March 1, 2015 and September 30, 2015.

(3) Extension of renewal requirements for flight instructor certification. The holder of a flight instructor certificate that expires between March 31, 2020 and May 31, 2020 may renew his or her flight instructor certificate by submitting a completed and signed application to the FAA and satisfactorily completing one of the renewal requirements specified in § 61.197(a)(2)(i) through (iv) before June 30, 2020.

(b) Part 63 of this Chapter.

(1) Extension of medical certificate duration requirements. For a person acting as a flight engineer of an aircraft, the expiration date of a second-class (or higher) medical certificate that expires between March 31, 2020 and September 30, 2020 is extended 3 calendar months from the original expiration date. Unless otherwise prohibited by a foreign country, a person may operate outside of the United States under this paragraph 3.(b)(1) if the person:

(i) Has access to this SFAR when outside the United States; and

(ii) Presents a copy of this SFAR for inspection upon request by a foreign Civil Aviation Authority in accordance with the Convention on International Civil Aviation (Chicago Convention), and its Annexes.

(2) Extension of written test duration requirements in § 63.35 of this chapter. An applicant for a flight engineer certificate or rating may satisfy the knowledge requirement in § 63.35(d) of this chapter by passing the required written test within the 27-calendar month period preceding the month the applicant completes the practical test, provided the written test was passed between March 1, 2018 and September 30, 2018.

(c) Part 65 of this Chapter.

(1) Extension of knowledge test duration requirements in § 65.55 of this chapter. An applicant for an aircraft dispatcher certificate may satisfy the knowledge requirement in § 65.55(b) of this chapter by presenting satisfactory evidence that the applicant passed the knowledge test within the 27-calendar month period preceding the month the applicant completes the practical test, provided the knowledge test was passed between March 1, 2018 and September 30, 2018.

(2) Extension of testing period in § 65.71 of this chapter. A person may show eligibility for a mechanic certificate or rating under § 65.71 of this chapter by passing all the prescribed tests of part 65, subpart D, of this chapter within a period of 27 months, provided the testing period began between March 1, 2018 and September 30, 2018.

(3) Renewal of inspection authorizations in § 65.93 of this chapter.

(i) Grace period for meeting renewal requirements. Notwithstanding the requirement in § 65.93(c) of this chapter, an inspection authorization holder who did not complete one of the activities in § 65.93(a)(1) through (5) of this chapter by March 31, 2020 of the first year may still be eligible for renewal of an inspection authorization for a 2-year period in March 2021. To be eligible for renewal, the inspection authorization holder must show completion of one of the five activities in § 65.93(a)(1) through (5) of this chapter by June 30, 2020, and completion of the one of the five activities in § 65.93(a)(1) through (5) of this chapter during the second year of the 2-year period. A person who completes one of the five activities by June 30, 2020 will be considered to have completed the activity by March 31, 2020 of the first year for purposes of determining eligibility under § 65.93 of this chapter.

(ii) Inspection authorization privileges after June 2020. If the inspection authorization holder does not complete one of the five activities in § 65.93(a)(1) through (5) of this chapter by June 30, 2020, the inspection authorization holder may not exercise inspection authorization privileges after June 30, 2020. The inspection authorization holder may resume exercising inspection authorization privileges only after passing an oral test from an FAA inspector in accordance with § 65.93(c) of this chapter.

(4) Military riggers or former military riggers: Special certification rule of § 65.117 of this chapter. A person may satisfy the requirements of § 65.117(a) and (b) of this chapter for a senior parachute rigger certificate by presenting satisfactory documentary evidence that the person was honorably discharged or released from any status covered by § 65.117(a) of this chapter between March 2019 and June 2019, and has served as a parachute rigger for an Armed Force within the 15 months before the date of application.

(d) Relief for U.S. Military and Civilian Personnel Who are Assigned Outside the United States in Support of U.S. Armed Forces Operations. Notwithstanding the six calendar month period specified in paragraph 2 of SFAR No. 100-2 of this part, a person may exercise the relief specified in paragraph 1 of SFAR No. 100-2 for a duration of nine calendar months after returning to the United States, provided the person—

(i) Is eligible in accordance with paragraph 2 of SFAR No. 100-2 of this part;

(ii) Complies with the documentation requirements specified in paragraph 3 of SFAR No. 100-2 of this part; and

(iii) Returned to the United States from deployment between October 2019 and March 2020.

(e) Part 141 of this Chapter.

(1) Pilot school certificate requirements of § 141.5 of this chapter.

(i) Provisional pilot school. Notwithstanding the period specified in § 141.5 of this chapter, a provisional pilot school may apply for, and the FAA may issue, a pilot school certificate with the appropriate ratings if the following requirements are met—

(A) The provisional pilot school must satisfy the requirements of § 141.5(a) through (e) of this chapter before December 31, 2020;

(B) The provisional pilot school certificate must expire between April 2020 and June 2020; and

(C) The provisional pilot school meets the requirements of paragraph 3.(e)(1)(ii) of this SFAR.

(ii) Safety mitigations.

(A) The provisional pilot school must notify its responsible Flight Standards office that it is applying for a pilot school certificate in accordance with this SFAR.

(B) Each provisional pilot school must include in its notification an acceptable plan that explains the method to meet the requirements of § 141.5(d) and (e) of this chapter, including—

(1) Ensuring each instructor used for ground or flight training is current and proficient; and

(2) Evaluating students to determine if they are assigned to the proper stage of the training course and if additional training is necessary.

(2) Renewal of certificates and ratings in § 141.27 of this Chapter.

(i) Pilot school. A pilot school may apply for renewal of its pilot school certificate and ratings after the expiration of its pilot schools certificate, provided the school applies for renewal before December 31, 2020 and the following requirements are met—

(A) The pilot school must meet § 141.27(a)(2) of this chapter before December 31, 2020;

(B) The pilot school certificate must expire between April 2020 and June 2020; and

(C) The pilot school meets the requirements of paragraph 3.(e)(2)(ii) of this SFAR.

(ii) Safety mitigations.

(A) Each pilot school must submit to the responsible Flight Standards office notification that it will renew its pilot school certificate in accordance with this SFAR.

(B) Each pilot school must include in its notification an acceptable plan that explains the method to regain currency, including—

(1) Ensuring each instructor used for ground or flight training is current and proficient; and

(2) Evaluating students to determine if they are assigned to the proper stage of the training course and if additional training is necessary.

4. Other relief for special flight permits issued under § 21.197(c) of this chapter. In addition to the purposes specified in § 21.197(c) of this chapter, notwithstanding §§ 119.5(l) and 91.1015(a) of this chapter, a special flight permit with a continuing authorization may be issued under § 21.197(c) of this chapter for aircraft that may not meet applicable airworthiness requirements, but are capable of safe flight for the purpose of flying the aircraft to a point of storage, provided the following requirements are met—

(a) The air carrier or operator must hold a special flight permit with continuing authorization to conduct a ferry flight program issued under § 21.197(c) of this chapter; and

(b) The certificate holder or management specification holder must notify the responsible Flight Standards office each time the special flight permit is used for the purpose of flying the aircraft to a point of storage.

5. Expiration date. This SFAR is effective until March 31, 2021. The FAA may amend, rescind, or extend the SFAR as necessary.

6. Office of Management and Budget (OMB) control number. The Paperwork Reduction Act of 1995 (44 U.S.C. 3501-3520) requires the FAA to get approval from OMB for our information collection activities. The OMB control number assigned to the FAA's information collection associated with this SFAR is 2120-0788.

PART 63—CERTIFICATION: FLIGHT CREWMEMBERS OTHER THAN PILOTS

5. The authority citation for part 63 continues to read as follows:

Authority: 49 U.S.C. 106(f), 106(g), 40113, 44701-44703, 44707, 44709-44711, 45102-45103, 45301-45302.

6. Remove Special Federal Aviation Regulation (SFAR) No. 118 from part 63 and add, in its place, SFAR No. 118-1 to part 63 to read as follows:

Special Federal Aviation Regulation No. 118-1—Relief for Certain Persons During the National Emergency Concerning the Novel Coronavirus Disease (COVID-19) Public Health Emergency

For the text of SFAR No. 118-1, see part 61 of this chapter.

PART 65—CERTIFICATION: FLIGHT CREWMEMBERS OTHER THAN PILOTS

7. The authority citation for part 65 continues to read as follows:

Authority: 49 U.S.C. 106(f), 106(g), 40113, 44701-44703, 44707, 44709-44711, 45102-45103, 45301-45302.

8. Remove Special Federal Aviation Regulation (SFAR) No. 118 from part 65 and add, in its place, SFAR No. 118-1 to part 65 to read as follows:

Special Federal Aviation Regulation No. 118-1 —Relief for Certain Persons During the National Emergency Concerning the Novel Coronavirus Disease (COVID-19) Public Health Emergency

For the text of SFAR No. 118-1, see part 61 of this chapter.

PART 91—GENERAL OPERATING AND FLIGHT RULES

9. The authority citation for part 91 continues to read as follows:

Authority : 49 U.S.C. 106(f), 106(g), 40113, 44701-44703, 44707, 44709-44711, 44729, 44903, 45102-45103, 45301-45302; Sec. 2307 Pub. L. 114-190, 130 Stat. 615 (49 U.S.C. 44703 note).

10. Remove Special Federal Aviation Regulation (SFAR) No. 118 from part 91 and add, in its place, SFAR No. 118-1 part 91 to read as follows:

Special Federal Aviation Regulation No. 118-1—Relief for Certain Persons During the National Emergency Concerning the Novel Coronavirus Disease (COVID-19) Public Health Emergency

For the text of SFAR No. 118-1, see part 61 of this chapter.

PART 107—SMALL UNMANNED AIRCRAFT SYSTEMS

11. The authority citation for part 107 continues to read as follows:

Authority: 49 U.S.C. 106(f), 40101 note, 40103(b), 44701(a)(5); Sec. 333 of Pub. L. 112-95, 126 Stat. 75.

12. Remove Special Federal Aviation Regulation (SFAR) No. 118 from part 107 and add, in its place, SFAR No. 118-1 to part 107 to read as follows:

Special Federal Aviation Regulation No. 118-1—Relief for Certain Persons During the National Emergency Concerning the Novel Coronavirus Disease (COVID-19) Public Health Emergency

For the text of SFAR No. 118-1, see part 61 of this chapter.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

13. The authority citation for part 125 continues to read as follows:

Authority : 49 U.S.C. 106(f), 106(g), 40113, 44701-44702, 44705, 44710-44711, 44713, 44716-44717, 44722.

14. Remove Special Federal Aviation Regulation (SFAR) No. 118 from part 125 and add, in its place, SFAR No. 118-1 to part 125 to read as follows:

Special Federal Aviation Regulation No. 118-1—Relief for Certain Persons During the National Emergency Concerning the Novel Coronavirus Disease (COVID-19) Public Health Emergency

For the text of SFAR No. 118-1, see part 61 of this chapter.

PART 141—PILOT SCHOOLS

15. The authority citation for part 141 continues to read as follows:

Authority: 49 U.S.C. 106(f), 106(g), 40113, 44701-44703, 44707, 44709, 44711, 45102-45103, 45301-45302.

16. Remove Special Federal Aviation Regulation (SFAR) No. 118 from part 141 and add, in its place, SFAR No. 118-1 to part 141 to read as follows:

Special Federal Aviation Regulation No. 118-1—Relief for Certain Persons During the National Emergency Concerning the Novel Coronavirus Disease (COVID-19) Public Health Emergency

For the text of SFAR No. 118-1, see part 61 of this chapter.

Issued under authority provided by 49 U.S.C. 106(f), 44701(a), and 44703 in Washington, DC, on June 24, 2020.
Steve Dickson,
Administrator, Federal Aviation Administration.

[FR Doc. 2020-13960 Filed 6-25-20; 8:45 am]

BILLING CODE 4910-13-P